DEPARTMENT OF HEALTH AND HUMAN SERVICES

Administration for Children and Families

National Child Welfare Resource Centers Cooperative Agreements

Federal Agency Contact Name: Administration for Children and Families, Administration on Children, Youth and Families, Children's Bureau.

Funding Opportunity Title: Seven National Child Welfare Resource Centers.

Announcement Type: Cooperative Agreements-Initial.

Funding Opportunity Number: HHS-2004-ACF-ACYF-CZ-0026.

CFDA Number: 93.556.

Due Date for Applications: August 24, 2004.

I. Funding Opportunity Description

General Information: The Seven National Child Welfare Resource Centers

In order to more fully meet the promise, potential and challenges of the Adoption and Safe Families Act (ASFA) and other legislation that are transforming the child welfare field, the Administration on Children, Youth and Families proposes to establish a coordinated national technical assistance network that can address the range of challenges State child welfare systems confront in delivering effective services to children, youth and families. To accomplish this, seven new cooperative agreements will be awarded to establish National Resource Centers for Child Welfare Programs.

It is critically important that these national resource centers: (1) Function systematically as a network; (2) have the ability to work effectively in a rapidly changing environment; (3) deliver technical assistance in ways that best meet the needs of child welfare agencies; (4) document use of funds and the effectiveness of the services they deliver; and (5) use technology to support service delivery and knowledge management.

For over a decade, the Children's Bureau (CB) has been funding a network of National Resource Centers, Clearinghouses, and other national centers with expertise in specific topic areas related to child maltreatment and child welfare. Through this network the Children's Bureau provides training and technical assistance (T/TA) to the States to support and enhance States' service delivery systems. For more information on this network, see http://nccanch.acf.hhs.gov/pubs/reslist/cbttan/index.cfm.

Additionally, Section 1123A of the Social Security Act requires the Secretary to make technical assistance available to States, to the extent feasible, to enable them to develop and implement program improvement plans stemming from the Child and Family Service Reviews (CFSRs). Findings from the first round of CFSRs have demonstrated the need for a more integrated and coordinated technical assistance approach to assist States in meeting the goals of their program improvement plans (PIPs) and other child welfare systems change objectives.

Over the last four years, the Children's Bureau has worked closely with its entire network of National Resource Centers and Clearinghouses to begin to develop a more coordinated strategy and approach for working with the States. The changes started in the last four years have greatly increased the collaboration and coordination across the entire T/TA network. To this end, the Children's Bureau is committed to planning and implementing a stronger, more formalized, coordinated training and technical assistance strategy across the network of T/TA providers to support the States in the planning and implementation of the CFSRs and other child welfare systems change efforts.

One of the most immediate changes has been to direct the Children's Bureau network of T/TA Resource Centers to give priority to issues identified by the Children's Bureau as areas of greatest need. As a result, the focus of the majority of T/TA has been responding to State needs related to Federal reviews and implementation of program improvement plans. The Children's Bureau envisions that this new network of T/TA providers will need to be flexible and responsive to the issues that may arise over the next five years. Resource Centers funded by the Children's Bureau must have the capacity to adjust and refine their T/TA approaches based on ever changing needs and priorities from legislation and the field.

In this context, the Children's Bureau has modified the overall management of the National Resource Center programs in four significant ways: developing a single point of entry, coordination through the Training and Technical Assistance Coordination Committee, close coordination with other technical assistance providers and an identified evaluator of technical assistance efforts. The following section on Coordination of the Seven National Resource Centers provides details on these management strategies.

The current atmosphere of systems change and reform has brought a number of Child Protective Service (CPS) issues to the forefront. Effective T/TA strategy should not only analyze and respond to expressed needs, but also provide leadership to the field of child welfare through knowledge building and seeking out and disseminating evidenced-based practices. Given the limited resources available, this T/TA strategy must include a commitment to working with other Federal, State, and local resources and providers to maximize the T/TA available for States and insure positive outcomes for children, youth and families.

The National Resource Centers play a pivotal role in assisting States as they transform their service delivery systems to achieve safety and permanency for children and youth. Integrated into the role of every National Resource Center will be the responsibility of assisting States to improve performance in the areas of safety, permanency and well-being. These concepts must be integrally linked at each stage of service delivery to provide effective services to families, youth and children.

The purpose of these National Resource Centers is to build the capacity of State, local, Tribal, and other publicly administered or publicly supported child welfare agencies, and family and juvenile courts, through the provision of training, technical assistance and consultation on the full array of Federal requirements administered by the Children's Bureau. Special attention will be given to assisting States in improving conformity with the outcomes and systemic factors defined in the Child and Family Services Review (CFSR) and the results of other monitoring reviews conducted by the Children's Bureau (such as title IV-E, AFCARS and SACWIS). These efforts will focus on the development, expansion, strengthening and/or improvement of the quality and effectiveness of child welfare services to children, youth and families and on the information management systems used to record case activity. The National Resource Centers will focus efforts on strengthening the capacity of agencies to integrate policy and practice and to improve the delivery of services and the outcomes for children. A primary focus of all National Resource Centers will be to assist States in the planning and implementing of systemic change as defined in the States' program improvement plans (PIPs) related to all monitoring reviews.

In order to provide T/TA relevant to the monitoring reviews and related corrective action plans, and to meet other legislative requirements and agency priorities, cooperative agreements to establish seven National Resource Centers for Child Welfare Programs will be awarded to organizations with expertise in the following topical areas:

• Organizational Improvement. Improving management and operations, bolstering organizational capacity and promoting service integration in order to improve outcomes for children, youth and families.

• Child Protective Services. Developing and integrating policies and practices that improve the prevention, reporting, assessment and treatment of child abuse and neglect.

• Family-Centered Practice and Permanency Planning. Institutionalizing a safety-focused, family-centered, and community-based approach to meet the multiple and complex needs of children, youth and families, developing, supporting and maintaining a range of services to safely maintain children in the home when appropriate; providing quality care for children and youth in the care and custody of the State; and moving children from foster care to safe permanent home placements effectively.

• Data and Technology. Supporting and enhancing State child welfare case management information systems and the collection and utilization of data and information that improve outcomes for children and their families and support informed decisions about policies, programs, and practices.

• Legal and Judicial Issues. Improving legal representation of agencies, children, youth and parents and supporting court improvement to establish processes that achieve timely and appropriate permanency for children and youth, and result in informed judicial decision making.

• Special Needs Adoption. Developing, supporting and maintaining a range of services to increase the number of children who are adopted from foster care and improving the effectiveness and quality of adoption and post-adoption services.

• Youth Development. Developing, supporting and maintaining a range of services and supports to assist youth in making a smooth transition to adulthood, achieving permanency, and reducing the likelihood of dependency on the adult social welfare system.

Recent shifts in the delivery of child welfare services have focused on family-centered, community-based and individually focused approaches. The National Resource Centers' services are expected to support such approaches in providing training and technical assistance on the delivery of State services.

Family-centered practice is designed to strengthen and empower families to protect and nurture their children; safely preserve family relationships and connections when appropriate; recognize the strong influence social systems have on individual behavior; enhance family autonomy; respect the rights, values and cultures of families; and focus on an entire family rather than selected individuals within a family.

Community-based practice is designed to support the needs of children within the context of their families and communities; emphasize prevention-oriented services and support; and provide local communities a role in identifying, designing, implementing and overseeing services within the community.

Individualized services are designed to tailor interventions to meet the specific needs of children, youth and families served; recognize that children, youth and families are affected by both individual and environmental factors; recognize that children, youth, families and the environments in which they operate are unique; and offer children, youth and families opportunities to provide input into their strengths, needs, and goals and the means to achieve those goals.

Coordination of the Seven National Child Welfare Resource Centers

The first round of CFS reviews has demonstrated the need for a more integrated and coordinated technical assistance approach to assist States to meet PIP objectives, especially since States that fail to meet objectives face penalties. In this context, the Children's Bureau has modified the overall management of the National Child Welfare Resource Center programs in four significant ways:

(1) The Children's Bureau is establishing a single point of entry for States and Tribes to request onsite training and technical assistance from National Child Welfare Resource Centers and AdoptUSKids. The National Child Welfare Resource Center on Organizational Improvement (NCWRCOI) will operate as this single point of entry. The other six national resource centers funded to provide T/TA to State child welfare agencies will need to work collaboratively with the NCWRCOI to ensure a coordinated and immediate response to on-site T/TA requests from the States, ACF Regional Offices, and the Children's Bureau.

(2) All National Resource Centers funded by the Children's Bureau will work with the Training and Technical Assistance Coordination Committee, which will be composed of Federal staff from the Children's Bureau and Regional Offices, and will provide direction to the strategic development of the training and technical assistance network.

(3) All National Resource Centers will work collaboratively with AdoptUSKids, the Children's Bureau Clearinghouses, and other members of the training and technical assistance network funded by the Children's Bureau, particularly as it relates to the Child and Family Service Reviews and other issues of priority identified by the Children's Bureau.

(4) The NCWRCOI will evaluate the results and benefits of the technical assistance provided by all seven National Child Welfare Resource Centers. The National Child Welfare Resource Centers will provide evaluation data to the NCWRCOI. The purpose of this evaluation is to track and coordinate activities in order to improve services and build knowledge. The evaluation will not be used to determine compliance or merit and the results of the evaluation will not be used to judge, award or penalize NRC performance.

Recent experience with the National Child Welfare Resource Centers has highlighted the importance of the centers working together to assist States in strategies towards systemic change. The need for integrating technical assistance from multiple National Child Welfare Resource Centers is clear. The combined knowledge and energies of the National Resource centers have been required in a number of projects and this trend is expected to continue. To assist with these issues, the Children's Bureau will create a Training and Technical Assistance Coordination Committee to work with the National Child Welfare Resource Center network. The Training and Technical Assistance Committee will be made up of Federal staff, including Federal Project Officers, CFSR National Review Team members, Regional Office and other Federal staff. It will coordinate with other training and technical assistance initiatives of the Children's Bureau and work with the seven National Child Welfare Resource Centers and AdoptUSKids to establish training and technical assistance priorities.

These resource centers will each serve as a primary contributor to a national repository of expertise and resources in the field of child welfare. They will engage in a process of knowledge building and knowledge transfer that takes place within and across resource centers. In coordination with the Children's Bureau, these resource centers will identify promising practices and approaches that reflect the state of the art and contribute to improved outcomes for children, youth and families in the child welfare system. All training and technical assistance will be provided in the comprehensive context of child welfare services and will be integrated to assist States in meeting the legislative requirements and agency priorities of the Children's Bureau.

The National Child Welfare Resource Center network must have a commitment to working collaboratively with other Children's Bureau partners, including public/private, State, regional, and Federal partnerships in implementing their training and technical assistance efforts.

Programs of ACYF and the Children's Bureau

The Administration on Children, Youth and Families (ACYF) administers national programs for children and youth; works with States and local communities to develop services which support and strengthen family life; seeks joint ventures with the private sector to enhance the lives of children and their families; and provides information and other assistance to parents. The concerns of ACYF extend to all children from birth through adolescence. Many of the programs administered by the agency focus on children from low-income families; abused and neglected children; children and youth in need of foster care, independent living, adoption or other child welfare services; preschool children; children with disabilities; children of prisoners; runaway and homeless youth; and children from Native American and migrant families.

Within ACYF, the Children's Bureau plans, manages, coordinates, and supports child abuse and neglect prevention and child welfare services programs, and promotes continuous improvement in the delivery of child welfare services. Children's Bureau programs are designed to prevent neglect and abuse of children and to promote the safety, permanency, and well-being of all children, including those in foster care, available for adoption, recently adopted, abused, neglected, dependent, disabled, or homeless children and youth. The programs encourage strengthening the family unit to help prevent the unnecessary separation of children from their families, and support reunification of families when separation has occurred, as appropriate. The Children's Bureau also supports programs and services that encourage healthy marriage; promote family stability; support relationship building for parenting couples; reach out to and provide assistance to fathers; and emphasize the role of fathers in ensuring the well-being of their children.

State child welfare systems are designed to protect children who have suffered maltreatment, who are at risk for maltreatment, or who are under the care and placement responsibility of the State because their families are unable to care for them. These systems also focus on securing permanent living arrangements through foster care and adoption for children who are unable to return home.

The Children's Bureau fulfills its mission by providing leadership and conducting activities designed to assist and enhance national, State, and community efforts to prevent, assess, identify, and treat child abuse and neglect. These activities include data collection and analysis; research and demonstration programs, and grants to States for: Developing comprehensive, child-centered and family-focused child protective services systems; providing training and technical assistance to develop the necessary resources to implement successful, comprehensive, child and family protection strategies; developing comprehensive case-management information systems; and gathering, processing, and housing high-quality data.

Federal programs administered by the Bureau include the Foster Care and Adoption Assistance Programs, the Child and Family Services State Grants Program, Child Abuse Prevention and Treatment State Grant, Child Welfare Services Training Program, the Chafee Foster Care Independence Program and Education and Training Voucher Program, the Adoption Opportunities Program, the Abandoned Infants Assistance Program, the Court Improvement Program, the Infant Adoption Awareness Training Program, the Children's Justice Act Grants Program, Community-Based Grants for the Prevention of Child Abuse and Neglect, and several discretionary grant programs authorized by the Child Abuse Prevention and Treatment Act (CAPTA). For more information about Children's Bureau programs, visit http://www.acf.hhs.gov/programs/cb.

Legislation Governing ACYF and Children's Bureau Programs

This section provides a summary of key legislation governing and providing critical guidance to all of the National Child Welfare Resource Centers. During the past ten years, policymakers and the public have become increasingly concerned over the fate of children who come into contact with the child welfare system. Fortunately, the level of concern over children in child welfare has generated a productive climate of reform, evidenced by the passage of major pieces of Federal legislation listed and described below. For instance, ASFA, passed in 1997, requires a focus on results and accountability and makes it clear that child welfare services must lead to positive outcomes for children. This legislation provided the Federal government and its partners at the State and local levels with an important opportunity to reform and revitalize child welfare services.

The following table indicates the specific legislation which authorizes and/or provides funding for each of the individual National Child Welfare Resource Centers.

Priority area | Funding source/authorizing legislation
1. National Child Welfare Resource Center for Organizational Improvement | Adoption Opportunities, Child Abuse Prevention and Treatment Act, Promoting Safe and Stable Families.
2. National Child Welfare Resource Center for Child Protective Services | Child Abuse Prevention and Treatment Act.
3. National Resource Center for Family-Centered Practice and Permanency Planning | Adoption Opportunities, Promoting Safe and Stable Families.
4. National Resource Center for Child Welfare Data and Technology | Title IV-E.
5. National Child Welfare Resource Center on Legal and Judicial Issues | Adoption Opportunities, Child Abuse Prevention and Treatment Act, Promoting Safe and Stable Families.
6. National Resource Center for Special Needs Adoption | Adoption Opportunities.
7. National Resource Center for Youth Development | Adoption Opportunities, Chaffee, Promoting Safe and Stable Families.

With the passage of Public Law 96-272, the Adoption Assistance and Child Welfare Act of 1980, the Federal government established a clear focus on the need for permanency for children in foster care and the importance of permanency planning and timely decision-making for these children. At that time, the law increased protections for children in foster care by requiring case plans that included goals, a description of the placement and its appropriateness, required periodic administrative reviews and judicial permanency placement determinations.

In 1986, Congress amended Title IV-E of the Social Security Act (the Act) by adding section 479, which requires the Federal government to institute a foster care and adoption data collection system (known as AFCARS). The AFCARS collects case level information on all children in foster care for whom the State child welfare agency has responsibility for placement, care or supervision and on children who are adopted under the auspices of the State's public child welfare agency.

The Omnibus Budget Reconciliation Act (OBRA) of 1993 provided States with the opportunity to obtain 75 percent enhanced funding through the Title IV-E program of the Social Security Act to plan, design, develop, and implement a Statewide Automated Child Welfare Information System (SACWIS) (Federal fiscal years 1993-1996). Title V, Section 502 of the Personal Responsibility and Work Opportunity Reconciliation Act of 1996 extended the SACWIS enhanced funding through Federal fiscal year 1997. Additionally, the legislation provided an enhanced SACWIS cost allocation to States so that Title IV-E would absorb all SACWIS costs for foster and adopted children, without regard to their Title IV-E eligibility. A SACWIS is expected to be a comprehensive, automated, case-management tool that supports social workers' foster care and adoption assistance case-management practice. Additionally, the systems may contain functionality that supports child protective and family preservation services, thereby providing a unified automated tool to support all child welfare services. By law, a SACWIS is required to support the reporting of data to Adoption and Foster Care Automated Reporting System (AFCARS) and the National Child Abuse and Neglect Data System.

The Multi-Ethnic Placement Act of 1994, as amended, prohibits the delay or denial of any adoption or placement in foster care due to the race, color or national origin of the child or the foster or adoptive parents and requires States to provide for diligent recruitment of potential foster and adoptive families that reflect the ethnic and racial diversity of children for whom homes are needed. Section 1808 of Public Law 104-188 affirms the prohibition against delaying or denying the placement of a child for adoption or foster care on the basis of race, color, or national origin of the foster or adoptive parents or the child involved [42 U.S.C. 1996b].

The Adoption Promotion Act of 2003 encourages States to focus greater effort on finding adoptive families for children ages nine and older. Under the legislation the Adoption Incentive Program will now include a targeted bonus for States successful in increasing the number of older children adopted from foster care, and continue to recognize overall progress in increasing adoptions from foster care.

States must implement the Indian Child Welfare Act (ICWA) [25 U.S.C. 1901 et seq.] which governs the jurisdiction, placement, termination of parental rights, and adoption of Native American children. This Act, passed in 1978, provided key standards that must be met by States when working with Tribal children, including notice to Tribes of State custody; standards for placement of Indian children in foster homes and termination of parental rights; active efforts to provide rehabilitative services; transfer of jurisdiction to Tribal courts and preferred placement of Indian children with extended families and other Indian families; and the Tribal right to intervene in State custody proceedings.

The Child Abuse Prevention and Treatment Act (CAPTA) recently reauthorized as part of the Keeping Children and Families Safe Act of 2003 (Pub. L. 108-36) [42 U.S.C. 5101 et seq.; 42 U.S.C. 5116 et seq.] is one of the key pieces of legislation that guides child protection. The reauthorization provides a number of amendments to the eligibility requirements for the CAPTA State grant including: policies and procedures that address the needs of drug-exposed infants; triage procedures for referral of children not at imminent risk of harm to community or preventative services; notification of an individual who is the subject of an investigation about allegations made against them; training for CPS workers on their legal duties and parents' rights; provisions to refer children under age three who are involved in a substantiated case to early intervention services under IDEA Part C. The 2003 Act amends other provisions of CAPTA including the authority for the National Clearinghouse on Child Abuse and Neglect, research and technical assistance, grants for demonstration programs and projects, Children's Justice Act grants, and Community-Based Grants for the Prevention of Child Abuse and Neglect (formerly known as the Community-Based Family Resource and Support Grants), and gives flexibility for States to determine open court policies in cases of child abuse and neglect.

In November 1997, the Adoption and Safe Families Act of 1997 (ASFA), Pub. L. 105-89 amended titles IV-B and IV-E of the Social Security Act. This law impacts the State child welfare system in two ways. It focuses on moving children who are languishing in the system into adoption or other permanent placements, and it seeks to change the experience of children entering the system to increase the timeliness of securing permanency. ASFA embodies five key principles:

1. The safety of children is the paramount concern that must guide all child welfare services.

2. Foster care is a temporary setting and not a place for children to grow up.

3. Permanency planning efforts for children should begin as soon as a child enters foster care and should be expedited by the provision of services to families.

4. The child welfare system must focus on results and accountability.

5. Innovative approaches are needed to achieve the goals of safety, permanency, and well-being.

To implement these principles, the law requires that child safety be the paramount concern in making service provision, placement, and permanency planning decisions. It reaffirms the importance of making reasonable efforts to preserve and reunify families, but also specifies that States are not required to make efforts to keep children with their parents when doing so places a child's safety in jeopardy. To ensure that the system respects a child's developmental needs, the law includes provisions that shorten the time frame for making permanency planning decisions, and that establish a time frame for initiating proceedings to terminate parental rights.

The law also calls for the Children's Bureau to focus on results, which has been at the heart of this reform effort. To this end, the Child and Family Services (CFS) review process was published in a final rule in the Federal Register (65 FR 40-4093) on January 25, 2000. Unlike previous review systems, the CFS reviews require States to demonstrate that children and families served by the child welfare system are experiencing positive results. By June 2004 all States, the District of Columbia and Puerto Rico will have completed CFS reviews. Thirty-two States have developed Program Improvement Plans (PIPs) to build on strengths and address areas needing improvement that were noted in the review process, with special attention to improving State capacity to create positive outcomes for children and families.

In 1999, the Chafee Foster Care Independence Program (CFCIP) was enacted under the Foster Care Independence Act of 1999, section 477 of the Social Security Act, as amended. This Act expanded the purposes and resources of the Federal Independent Living Program (ILP) originally enacted in 1986 under Public Law 96-272. CFCIP offers assistance to help current and former foster care youths achieve self-sufficiency. Grants are offered to States who submit a plan to assist youth in a wide variety of areas designed to support a successful transition to adulthood. Activities and programs include, but are not limited to help with education, employment, financial management, housing, emotional support and assured connections to caring adults for older youth in foster care as well as youth 18-21 who have aged out of the foster care system. A reporting system for States and a program evaluation component will be used to attain more knowledge about the outcomes of youth transitioning to adulthood.

Under Title II of the Promoting Safe and Stable Families Amendments (PSSF Amendments) of 2001, Public Law 107-133 is the Education and Training Vouchers for Youths Aging Out of Foster Care Program (ETV). It amends section 477 of Title IV-E of the Social Security Act, adding a new purpose to CFCIP specifically targeting additional resources to meet the education and training needs of youth aging out of foster care. The law authorizes payments to States for post secondary educational and training vouchers for youth that have aged out of foster care; or are otherwise eligible for services under the State program under this section. The full text of the above applicable laws enacted since 1996 can be found at http://www.acf.hhs.gov/programs/cb/laws/index.htm.

The Title IV-B, subpart 2, Promoting Safe and Stable Families program provides funds to states to provide family support, family preservation, time-limited family reunification services, and services to promote and support adoptions. These services are primarily aimed at preventing the risk of abuse and promoting nurturing families, assisting families at risk of having a child removed from their home, promoting the timely return of a child to his/her home, and if returning home is not an option, placement of a child in a permanent setting with services that support the family. As part of this program, the Court Improvement Program provides grants to help State courts improve their handling of proceedings relating to foster care and adoption. After an initial assessment of court practices and policies, States use these funds for improvements and reform activities. Typical activities include development of mediation programs, joint agency-court training, automated docketing and case tracking, linked agency-court data systems, one judge/one family models, time-specific docketing, formalized relationships with the child welfare agency, and legislative change.

Other General Information

Available Funds: Applicants should note that cooperative agreements to be awarded under this program announcement are subject to the availability of funds.

Assurances: By signing the “Signature of Authorized Representative” on the SF 424, the applicant is providing a certification for completing the cooperative agreement requirements that are listed under “assurances” in each of the individual NRC program descriptions.

Tips for Preparing a Competitive Application: It is essential that applicants read the entire announcement package carefully before preparing an application and include all of the required application forms and attachments. The application must reflect a thorough understanding of the purpose and objectives of the Children's Bureau priority-area initiatives. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant Web sites. Before you begin preparing an application, we suggest that you learn more about the mission and programs of the Children's Bureau by exploring the Web site.

Organizing Your Application: The specific evaluation criteria in Section V of each priority area will be used to review and evaluate each application. The applicant should address each of these specific evaluation criteria in the project description. It is strongly recommended that applicants organize their proposals in the same sequence and using the same headings as these criteria, so that reviewers can readily find information that directly addresses each of the specific review criteria.

Table of Contents

General Information: The Seven National Child Welfare Resource Centers

Priority Area 1 Organizational Improvement

Priority Area 2 Child Protective Services

Priority Area 3 Family-Centered Practice and Permanency Planning

Priority Area 4 Data and Technology

Priority Area 5 Legal and Judicial Issues

Priority Area 6 Special Needs Adoption

Priority Area 7 Youth Development

Award Administration Information for all 7 priority areas

Agency Contacts for all 7 priority areas

Other Information for all 7 priority areas

Summary Award Information

Funding Instrument Type: Cooperative Agreement.

Description of Federal Substantial Involvement With Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Anticipated Total Funding: $6,700,000.

Anticipated Number of Awards: Seven.

Ceiling on Amount of Individual Awards: Individual priority areas vary from $800,000 to $1,400,000 in the first budget period of the project.

Floor of Individual Award Amounts: None.

Average Projected Award Amount: Individual priority areas vary from $800,000 to $1,400,000 in the first budget period of the project.

Project Periods for Awards: 60 months.

Priority Area 1—National Child Welfare Resource Center for Organizational Improvement

Purpose: The purpose of this Cooperative Agreement is to provide financial support for training and technical assistance to build the organizational capacity of State, local, Tribal and other publicly supported child welfare agencies in order to improve the outcomes of child welfare activities and to achieve the Adoption and Safe Families Act of 1997 (ASFA) goals of safety, permanency and well-being of children. This purpose will be accomplished by providing technical assistance, training, and consultation to child welfare agencies to strengthen, enhance, and focus their efforts to develop agency management structures and systems that improve the ability to administer titles IV-B and IV-E child welfare programs, including the development of program improvement plans in response to Child and Family Services Reviews.

The National Child Welfare Resource Center for Organizational Improvement is expected to provide these additional training and technical assistance management functions under this Cooperative Agreement:

• The first round of CFS reviews demonstrated the need for a more integrated and coordinated approach to assist States in meeting Program Improvement Plan objectives. In this context, the Children's Bureau is establishing a single point of entry for States and Tribes to request on-site training and technical assistance from the Children's Bureau's seven National Child Welfare Resource Centers and AdoptUSKids. The NCWRCOI is expected to serve this function.

• The National Child Welfare Resource Center on Organizational Improvement (NCWRCOI) will evaluate the results and benefits of the technical assistance provided by all seven National Child Welfare Resource Centers. The National Child Welfare Resource Centers will provide evaluation data to the NCWRCOI.

Activities to be conducted by the Resource Center for Organizational Improvement will include, but are not limited to:

(1) Identifying the organizational improvement needs of child welfare agencies and developing a national technical assistance and training strategy for organizational improvement that takes into consideration development of State Child and Family Services Plans and Program Improvement Plans, as well as CAPTA, Chafee and IV-B requirements;

(2) Providing technical assistance, training and consultation directly on-site as well as through state-of-the-art communication and technology-based methods to State, local, Tribal, and child welfare and child protective services agencies on issues of organizational improvement;

(3) Identifying and disseminating exemplary and innovative organizational improvement practices in such areas as strategic planning; team building; cross-program and cross-system coordination in the areas of mental health, health, education, substance abuse and domestic violence; quality assurance strategies; worker safety; caseloads and child welfare staffing, staff retention and training;

(4) Demonstrating a commitment to meaningful stakeholder involvement by involving courts, youth, Tribes and other relevant stakeholders in program planning, implementation and evaluation and other systems change initiatives;

(5) Coordinating with the Children's Bureau, ACF Regional Offices and State and Tribal agencies in the development of the annual technical assistance and training strategy;

(6) Providing specific training to States and their relevant stakeholders about strategic planning, program improvement plan development, implementation and monitoring, and integration of the program improvement plan into the Child and Family Services Plan;

(7) Providing a single point of entry for States and Tribes to request onsite T/TA from NRCs and AdoptUSKids. For each on-site T/TA request the NCWRCOI will involve the Regional Office Staff, the appropriate NRCs or AdoptUSKids, and Children's Bureau staff as needed, as well as any other critical stakeholder to facilitate an assessment of T/TA needs and a coordinated and immediate response that avoids delays or duplication of effort;

(8) Building the capacity of child welfare agencies and courts by coordinating twice-a-year team meetings of the Training and Technical Assistance Network funded by the Children's Bureau, and the Training and Technical Assistance Coordination Committee;

(9) Collaborating with other ACYF Resource Centers, other agencies in the Department of Health and Human Services and other agents of the Children's Bureau to strengthen TA efforts, avoid duplication and to manage resources effectively;

(10) Building the capacity of child welfare agencies and courts by managing, maintaining and updating to improve functionality, when needed, the web-based tracking system for training and technical assistance requests developed to track NRC's responses to all T/TA requests from State, local, Tribal and other publicly supported child welfare agencies;

(11) Evaluating the results and benefits of the technical assistance provided by all seven National Resource Centers in order to build knowledge and improve services;

(12) Supporting States and localities in developing and implementing their Program Improvement Plans resulting from Child and Family Service Reviews; and

(13) Building the capacity of child welfare agencies and courts by providing logistical arrangements and meeting planning for the annual national Child and Family Services Review conference.

Expected outcomes include the enhanced capacity of each State agency to:

(1) Develop, support, and maintain a range of services and supports which can be individualized to enhance positive outcomes in safety, permanency and well-being for children and families;

(2) Build interagency systems to expand and maintain required services;

(3) Coordinate the delivery of child welfare, health, mental health, substance abuse, domestic violence and educational services to children and families in the child welfare system;

(4) Develop and maintain effective training systems supporting family-centered, community-based practice;

(5) Promote the meaningful participation of stakeholders, including courts, in the design, implementation and evaluation of funded services;

(6) Implement quality assurance systems that include a peer review component, effective data utilization and other evaluation methodologies to enhance positive outcomes for children and families in the areas of safety, permanency and well-being; and

(7) Build on and benefit from their State's Child and Family Services Review/ Program Improvement Planning processes.

The aim of the Child Welfare Resource Center for Organizational Improvement is to strengthen State, local and Tribal child welfare administrative and management systems that are critical to achieving child safety, permanency and well-being by guiding them in planning and implementing systemic change, especially in response to Child and Family Services Reviews. This Resource Center is expected to train and assist State, local, Tribal and other publicly supported child welfare agencies to establish effective interagency cooperation and collaboration that involves all stakeholders, and promotes public-private partnerships in the coordination of child welfare services. Training and technical assistance needs will be identified by NRC staff in collaboration with States, the CB T/TA Coordinating Committee and coordinated with other ongoing national training and technical assistance efforts. The Resource Center will also be actively involved with identifying other training and technical assistance needs based on their work with other child welfare organizations. Training outcomes should be achieved through a combination of strategies, including on-site training, on and off-site technical assistance, and consultation with all appropriate stakeholder groups. Additionally, this resource center will act as the single point of entry for technical assistance requests to all NRCs and AdoptUSKids, evaluation of T/TA provided by NRCs and will provide logistical assistance with the annual Child and Family Services Review conference.

II. Award Information

Funding Instrument Type: Cooperative agreement.

Description of Federal Substantial Involvement With Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Anticipated Total Program Funding: The anticipated total for the award under this priority area in FY2004 is $1,400,000 in the first year of the project. It is anticipated that the award will increase to $1,750,000 in the remaining years of the project.

Anticipated Number of Awards: It is anticipated that one project will be funded.

Ceiling on Amount of Individual Awards: The grant amount will not exceed $1,400,000 in the first budget period of the project and $1,750,000 per budget period in the remaining years of the project. An application received that exceeds the upper value of the dollar range specified will be considered “non-responsive” and be returned to the applicant without further review.

Floor of Individual Award Amounts: None.

Average Anticipated Award Amount: $1,400,000 in the first budget period of the project and $1,750,000 per budget period in the remaining years of the project.

Project Periods for Awards: This grant will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Nonprofits having a 501(c)(3) status with the IRS, other than institutions of higher education

Nonprofits that do not have a 501(c)(3) status with the IRS, other than institutions of higher education

Private institutions of higher education

For-profit organization other than small businesses

Small businesses

Additional Information on Eligibility Collaborative efforts and interdisciplinary approaches are acceptable. Applications from collaborations must identify a primary applicant responsible for administering the grants.

Non-profit organizations, including faith-based and community organizations are elgible to apply. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost Sharing or Matching

The grantee must provide at least 10 percent of the total approved cost of the project. The total approved cost is the sum of the Federal share and the non-Federal share. Therefore, a project requesting $1,400,000 for the first year must include a match of at least $155,555 for that budget period. Applicants should provide a letter of commitment verifying the actual amount of the non-Federal share of project costs.

The following example shows how to calculate the required 10% match amount for a $1,400,000 grant:

$1,400,000 (Federal share)

divided by .90 (100%−10%)

equals $1,555,555 (total project cost including match)

minus $1,400,000 (Federal share)

equals $155,555 (required 10% match)

The non-Federal share may be cash or in-kind contributions, although applicants are encouraged to meet their match requirements through cash contributions. If approved for funding, grantees will be held accountable for the commitment of non-Federal resources and failure to provide the required amount will result in a disallowance of unmatched Federal funds.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

Applications that exceed the $1,400,000 ceiling in the first year of the project and $1,750,000 per budget period ceiling in the remaining years of the project will be considered non-responsive and will not be eligible for funding under this announcement.

IV. Application and Submission Information

1. Address To Request Application Package

ACYF Operations Center, c/o The Dixon Group, Inc., 118 Q Street, NE., Washington, DC 20002-2132, (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Each application must contain the following items in the order listed:

1. Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check ‘New.’

In Item 10 of Form 424, clearly identify the Catalog of Federal Domestic Assistance (CFDA) program title and number for the program for which funds are being requested as stated in the funding opportunity announcement.

In Item 11 of Form 424, identify the single priority area the application addresses.

In Item 12 of Form 424, identify the specific geographic area to be served.

In Item 14 of Form 424, identify Congressional districts of both the applicant and project.

2. Budget Information Non-Construction Programs (Form 424A) and Budget Justification.

Follow the instructions provided. Note that Federal funds provided to States and services or other resources purchased with Federal funds may not be used to match project grants.

3. Certifications/Assurances. Applicants requesting financial assistance for nonconstruction projects must file the Standard Form 424B, ‘Assurances: Non-Construction Programs.’ Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the application.

If applicable, applicants must include a completed SPOC certification (Single Point of Contact) with the date of the SPOC contact entered in line 16, page 1 of the Form 424.

Assurances: By signing the “Signature of Authorized Representative” on the SF 424, the applicant is providing a certification and need not mail assurances for completing the following cooperative agreement requirements:

• The applicant will have the project fully functioning within 90 days of the notification of the award.

• The applicant will participate in any evaluation or technical assistance effort supported by ACYF.

• The applicant will submit all required semi-annual and final Financial Status Reports (SF269) and Program Performance Reports in a timely manner, in hard-copy and electronic formats (preferably MS WORD and PDF) as negotiated with the Federal Project Officer.

• The Resource Center Project Director or one key staff member will attend the following meetings in Washington, DC. A meeting with the Federal Project Officer and other ACYF staff within 60 days of receiving the award; two meetings annually, for one to two days each, with Children's Bureau staff and other training and technical assistance partners to plan a national training and technical assistance strategy; one meeting annually to participate in a Children's Bureau grantee meeting with the purpose of disseminating knowledge gained from work with State agencies and courts around child welfare issues.

• In situations where the applicant's organizational position on a particular policy and/or practice might differ from the Federal position, the Federal position will be used to guide the Resource Center activity and will be reflected in all public statements and publications of the Resource Center.

• The applicant will enter into a Cooperative Agreement with the Children's Bureau.

• The Resource Center will work in partnership with the Children's Bureau and the ACF Regional Offices by providing technical assistance to States that have needs identified through one of ACF's review processes.

• The Resource Center will work collaboratively with the other six National Resource Centers and AdoptUSKids and will serve as a single point of entry for States and Tribes to request onsite training and technical assistance to ensure a coordinated and immediate response.

• The Resource Center will work with the Training and Technical Assistance Coordination Committee, which will be composed of Federal staff from the Children's Bureau and Regional Offices and will provide direction to the strategic development of the training and technical assistance network.

• The Resource Center will work collaboratively with the CB Clearinghouses and other members of the training and technical assistance network funded by the Children's Bureau in providing training and technical assistance.

The Office for Human Research Protections of the U.S. Department of Health and Human Services provides Web site information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable HHS regulations can be found in 45 CFR part 74 or 92.

4. Project Abstract/Summary (one page maximum). Clearly mark this page with the applicant name as shown on item 5 of the Form 424, identify the competitive priority area and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this priority area announcement providing information that addresses all the components.

6. Proof of non-profit status (if applicable). Any non-profit organization submitting an application must submit proof of its non-profit status in its application at the time of submission. Any of the following constitutes acceptable proof of such status:

a. A reference to the applicant organization's listing in the Internal Revenue Services' (IRS) most recent list of tax-exempt organizations described in the IRS Code.

b. A copy of a currently valid IRS tax exemption certificate.

c. A statement from a State taxing body, State attorney general, or other appropriate State official certifying that the applicant organization has a non-profit status and that none of the net earnings accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide a letter of commitment verifying the actual amount of the non-Federal share of project costs.

10. The application limit is 85 pages total including all forms and attachments. Submit one original and two copies.

To be considered for funding, each application must be submitted with the Standard Federal Forms (provided at the end of this announcement or through the electronic links provided) and following the guidance provided. The application must be signed by an individual authorized to act for the applicant organization and to assume responsibility for the obligations imposed by the terms and conditions of the grant award.

To be considered for funding, each applicant must submit one signed original and two additional copies of the application, including all forms and attachments, to the Application Receipt Point specified in the section titled Deadline. The original copy of the application must have original signatures, signed in black ink.

The application must be typed, double spaced, printed on only one side, with at least 1/2 inch margins on each side and 1 inch at the top and bottom, using standard 12 Point fonts (such as Times Roman or Courier). Pages must be numbered.

Pages over the page limit stated within this priority area announcement will be removed from the application and will not be reviewed. All copies of an application must be submitted in a single package, and a separate package must be submitted for each priority area. The package must be clearly labeled for the specific priority area it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting from application copies (not originals) specific salary rates or amounts for individuals specified in the application budget. The copies may include summary salary information.

Private non-profit organizations are encouraged to submit with their applications the survey located under “Grant Related Documents and Forms” titled “Survey for Private, Non-Profit Grant Applicants.”

Please see Section V.1. Criteria, for instructions on preparing the project summary/abstract and the full project description.

3. Submission Dates and Times

The closing time and date for receipt of applications is 4:30 p.m. eastern standard time (e.s.t.) on August 24, 2004. Mailed or handcarried applications received after 4:30 p.m. on the closing date will be classified as late.

Deadline: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., e.s.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms

What to submit | Required content | Required form or format | When to submit
1. SF424 | Per required form | May be found at http://www.acf.hhs.gov/programs/ofs/forms.htm | See application due date.
2. SF424A | Per required form | May be found at http://www.acf.hhs.gov/programs/ofs/forms.htm | See application due date.
3.a. SF424B | Per requiredform | May be found at http://www.acf.hhs.gov/programs/ofs/forms.htm | See application due date.
3.b. Certification regarding lobbying | Per required form | May be found at http://www.acf.hhs.gov/programs/ofs/forms.htm | See application due date.
3.c. Disclosure of Lobbying Activities (SF-LLL) | Per required form | May be found at http://www.acf.hhs.gov/programs/ofs/forms.htm | See application due date.
4. Project Summary/Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Non-Federal share letter | See above | See above | See application due date.
Total application | See above | Application limit 85 pages total including all forms and attachments. Submit one original and two copies | See application due date.

Additional Forms

Private, non-profit organizations are encouraged to submit with their applications the additional survey located under “Grant Related Documents and Forms” titled “Survey for Private, Non-Profit Grant Applicants.”

What to submit | Required content | Required form or format | When to submit
Survey for Private, Non-Profit Grant Applicants | Per required form | May be found on http://www.acf.hhs.gov/programs/ofs/forms.htm | By application due date.

4. Intergovernmental Review

State Single Point of Contact (SPOC)

This program is covered under Executive Order (E.O.) 12372, “Intergovernmental Review of Federal Programs,” and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by Federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc., does not have a SPOC. All remaining jurisdictions participate in the Executive Order process and have established SPOCs.

Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Federal funds received as a result of this announcement cannot be paid as profit to grantees or sub-grantees, i.e., any amount in excess of allowable direct and indirect costs of the recipient (45 CFR 74.81).

6. Other Submission Requirements

Submission by Mail: An applicant must provide an original application with all attachments, signed by an authorized representative and two copies. The application must be received at the address below by 4:30 p.m, eastern standard time on or before the closing date. Applications should be mailed to: ACYF Operations, The Dixon Group, ATTN: Children's Bureau, 118 Q Street, NE., Washington, DC 20002-2132.

For Hand Delivery: Applicant must provide an original application with all attachments, signed by an authorized representative and two copies. The application must be received at the address below by 4:30 p.m. eastern standard time on or before the closing date. Applications that are hand delivered will be accepted between the hours of 8 a.m. to 4:30 p.m., Monday through Friday. Applications may be delivered to: ACYF Operations, The Dixon Group, ATTN: Children's Bureau 118 Q Street, NE., Washington, DC 20002-2132. It is strongly recommended that applicants obtain documentation that the application was hand delivered on or before the closing date. Applicants are cautioned that express/overnight mail services do not always deliver as agreed.

Electronic Submission: Please see Section IV.2. Content and Form of Application Submission, for guidelines and requirements when submitting applications electronically.

Electronic Address Where Applications Will Be Accepted: www.Grants.gov.

Address Where Hard Copy Applications Will Be Accepted: Children's Bureau Grant Receipt Point, ACYF Operations Center, c/o The Dixon Group, Inc., 118 Q Street, NE., Washington, DC 20002-2132

ACYF will not acknowledge receipt of hard copy application submissions.

V. Application Review Information

The following Paperwork Reduction Act information and General Instruction for Preparing Full Project Description apply to all seven Priority Areas under this funding announcement. The Specific Evaluation Criteria in this section apply to this Priority Area only.

The Paperwork Reduction Act of 1995 (Pub. L. 104-13)

Public reporting burden for this collection of information is estimated to average 40 hours per response, including the time for reviewing instructions, gathering and maintaining the data needed and reviewing the collection information. The project description is approved under OMB control number 0970-0139 which expires 4/30/2007. An agency may not conduct or sponsor, and a person is not required to respond to, a collection of information unless it displays a currently valid OMB control number.

Instruction

Introduction. Applicants required to submit a full project description shall prepare the project description statement in accordance with the following instructions and the specified evaluation criteria. The instructions give a broad overview of what your project description should include while the evaluation criteria expands and clarifies more program-specific information that is needed.

1. Criteria

General Instruction for Preparing Full Project Description

Objectives and Need for Assistance. Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach. Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Organizational Profiles. Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Budget and Budget Justification. Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Personnel. Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits. Description: Costs of employee fringe benefits unless treated as part of an approved indirect cost rate.

Justification: Provide a breakdown of the amounts and percentages that comprise fringe benefit costs such as health insurance, FICA, retirement insurance, taxes, etc.

Travel. Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment. Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies. Description: Costs of all tangible personal property other than that included under the Equipment category.

Justification: Specify general categories of supplies and their costs. Show computations and provide other information which supports the amount requested.

Contractual. Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 U.S.C. 403(11). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other. Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges. Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Specific Evaluation Criteria

The following criteria will be used to review and evaluate each application under this Priority Area. The applicant should address each criterion in the project description. The point values (summing up to 100) indicate the maximum numerical weight each criterion will be accorded in the review process.

Criterion 1. Objectives and Need for Assistance

In reviewing the objectives and need for assistance, the following factors will be considered: (20 points)

(1) The extent to which the applicant demonstrates a clear and thorough understanding of the need for providing coordinated training and technical assistance to public and private child welfare agencies responsible for serving the target population(s), and the goals of the applicable legislative mandates.

(2) The extent to which the training and technical assistance objectives of the project will build the capacity of State, and local public and private agencies to support effective efforts to develop, operate, expand, and enhance initiatives improving outcomes for children, youth and families served by these agencies.

(3) The extent to which the proposed project will produce significant results and benefits, and a high level of customer satisfaction on the part of agencies served and their State and local constituents.

Criterion 2. Approach

In reviewing the approach, the following factors will be considered: (50 points)

(1) The extent to which there is a reasonable timeline for implementing the proposed project, including the activities to be conducted in chronological order, showing a reasonable schedule of accomplishments and target dates and the factors that may accelerate or decelerate the work.

(2) The extent to which the applicant provides a workable plan of action and evaluation plan. The extent to which these plans relate to the stated objectives and scope of the project and reflect the intent of the legislative mandates.

(3) The extent to which the applicant describes sound strategies for providing technical assistance and effectively building the capacity of State, and local public and private agencies to fulfill the legislative mandates for the target population effectively.

(4) The extent to which the applicant presents a sound plan for providing technical assistance to the agencies on the development and implementation of evaluation processes that will determine the efficacy and impact of their networks, programs, and activities.

(5) The extent to which the applicant describes sound and effective strategies to help agencies successfully develop a family-focused, child-centered, multi-disciplinary approach to the delivery of child welfare services, supports and activities that fulfills the legislative mandates such as the Child and Family Services Plan requirements as well as the objectives of the Child and Family Service Reviews. The extent to which this plan includes sound and effective strategies that will be used to enhance the agency's capacity to promote successful stakeholder involvement in the planning, implementation, and evaluation of funded programs.

(6) The extent to which the applicant describes clear strategies to provide specific training to States and their relevant stakeholders about strategic planning, program improvement plan development, implementation and monitoring, and integration of the program improvement plan into the Child and Family Services Plan;

(7) The extent to which the applicant describes sound strategies for acting as the single point of entry for States and Tribes to request onsite T/TA from NRCs and AdoptUSKids. The extent to which this plan includes effectively facilitating the involvement of the Regional Office Staff, the appropriate NRCs or AdoptUSKids, and Children's Bureau staff as needed, as well as any other critical stakeholder, in an effective assessment of T/TA needs. The extent to which the applicant includes sound strategies for a coordinated and immediate response which avoids delays and duplication of efforts, and supports the effective design and implementation of sound TA work plans.

(8) The extent to which there are sound strategies for building the capacity of child welfare agencies and courts by effectively managing, maintaining and updating the functionality, as needed, of the web-based tracking system for training and technical assistance requests developed for the Children's Bureau to track NRC's responses to on-site T/TA requests from State and Tribal child welfare agencies

(9) The extent to which there are sound procedures for providing effective logistical support for the annual national Child and Family Services Review conference and the two meetings for the Children's Bureau funded NRCs, the Children's Bureau and its Training and Technical Assistance Coordination Committee. The extent to which the plan includes collaboration with the Children's Bureau in setting dates, agendas and specific presentations.

(10) The extent to which the Resource Center's services, program activities, and materials will be developed and provided in a manner that is racially and culturally sensitive to the population(s) being served.

(11) The extent to which the applicant proposes a sound strategy for evaluating the training and technical assistance provided by the seven national resource centers in order to build knowledge and improve services. The extent to which this plan includes sound methods and criteria to evaluate the results and benefits of the technical assistance provided.

Criterion 3. Organizational Profiles (20 points)

In reviewing the organizational profiles, the following factors will be considered: (20 points)

(1) The extent to which the applicant organization and any partnering organizations collectively have sufficient experience and expertise (including experience on the national level) in: (1) Identifying the training and technical assistance needs of an agency or organization; (2) developing or participating in the development of a plan to meet those needs; (3) designing, developing and delivering training and technical assistance including recruiting, assigning, and deploying staff with appropriate experience; (4) coordinating with other National Resource Centers to identify services from those resource centers to meet the requested technical assistance needs; (5) developing evaluation strategies and providing technical assistance on evaluation methodologies, (6) designing, developing, delivering and evaluating training materials, (7) establishing effective working partnerships with other agencies and organizations; (8) managing, maintaining and updating functionality, as needed, of the web-based tracking system for training and technical assistance requests; and (9) the administration, development, implementation, management, and evaluation of similar projects. The extent to which each participating organization (including partners and/or subcontractors) possesses the organizational capability to fulfill their assigned roles and functions effectively (if the application involves partnering and/or subcontracting with other agencies/organizations).

(2) The extent to which the applicant's project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

(3) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification (10 points)

In reviewing the budget and budget justification, the following factors will be considered: (10 points)

(1) The extent to which the costs of the proposed project are reasonable, in view of the activities to be conducted and expected results and benefits.

(2) The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions.

Available Funds: Applicants should note that grants to be awarded under this program announcement are subject to the availability of funds. The size of the actual awards will vary. In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

Priority Area 2—National Child Welfare Resource Center for Child Protective Services

Purpose: The purpose of the National Resource Center for Child Protective Services (NRCCPS) is to build the capacity of State, local, Tribal, and other publicly administered or publicly supported child welfare agencies to achieve safety, permanency and well-being for children and families; to provide effective child abuse and neglect prevention, investigation, comprehensive assessment, intervention, and treatment services to families using a family-centered approach; to implement the requirements of the Child Abuse Prevention and Treatment Act (CAPTA), as amended by the Keeping Children and Families Safe Act of 2003; and to achieve the goals of other related legislation administered by the Children's Bureau including ASFA and ICWA.

The National Resource Center for Child Protective Services will work with State, Tribal, and local agencies to integrate research and policy into the development and implementation of programs that support quality practice in preventing, reporting, assessing and treating child abuse and neglect. The National Resource Center for Child Protective Services will also engage in ancillary activities which support the delivery of training and technical assistance congruent with Federal priorities.

Training and technical assistance activities to be conducted by the NRCCPS will include, but are not limited to:

(1) Conducting regular and ongoing interagency needs assessments of State, Tribal, and local child protective services needs, incorporating applicable findings from other statewide needs assessments processes such as the Child and Family Services Review (CFSR);

(2) Assisting States in improving the delivery of prevention, investigation, comprehensive assessment, intervention and treatment services to at-risk, abused or neglected children and their families;

(3) Supporting States in their Program Improvement Plans regarding child abuse and neglect related issues identified through the CFSR;

(4) Fostering an understanding, appreciation and knowledge of family-centered practices including healthy marriage, community collaboration strategies, individualized services and how substance abuse and domestic violence impact on child maltreatment and on intervention strategies;

(5) Providing technical assistance, training and consultation directly on-site as well as through state-of-the-art communication and technology-based methods to State, local, Tribal, and child welfare and child protective services agencies;

(6) Identifying and disseminating promising and innovative practices that address emerging child welfare issues related to child abuse and neglect prevention, investigation, assessment, intervention, and treatment using a family-centered approach;

(7) Building the capacity of child welfare agencies and courts by developing and disseminating materials, including curricula, guidelines and training materials;

(8) Coordinating with the Children's Bureau, ACF Regional Offices and State and Tribal agencies in the development of the annual technical assistance and training strategy;

(9) Processing all on-site T/TA requests through the single point of entry established by the NCWRCOI, which will involve the Regional Office staff, the appropriate NRCs or AdoptUSKids, and Children's Bureau staff as needed, as well as any other critical stakeholder to facilitate an assessment of T/TA needs and a coordinated and immediate response that avoids delays or duplication of effort;

(10) Participating in twice-a-year team meetings of the Training and Technical Assistance Network funded by the Children's Bureau, and the Training and Technical Assistance Coordination Committee;

(11) Collaborating with other ACYF Resource Centers, other agencies in the Department of Health and Human Services and other agents of the Children's Bureau to strengthen TA efforts, avoid duplication and manage resources effectively;

(12) Building the capacity of child welfare agencies and courts by providing information and cooperation needed by the NCWRCOI as it manages, maintains and updates to improve functionality, when needed, the web-based tracking system for training and technical assistance requests developed to track NRC's responses to T/TA requests from State, local, Tribal and other publicly supported child welfare agencies; and

(13) Providing data needed by the NCWRCOI to evaluate the results and benefits of the technical assistance provided by the National Resource Center.

II. Award Information

Funding Instrument Type: Cooperative agreement.

Description of Federal Substantial Involvement With Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Anticipated Total Program Funding: The anticipated total for the award under this priority area in FY2004 is $900,000.

Anticipated Number of Awards: It is anticipated that one project will be funded.

Ceiling on Amount of Individual Awards: The grant amount will not exceed $900,000 in the first budget period. An application received that exceeds the upper value of the dollar range specified will be considered “non-responsive” and be returned to the applicant without further review.

Floor of Individual Award Amounts: None.

Average Anticipated Award Amount: $900,000 per budget period.

Project Periods for Awards: This grant will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Nonprofits having a 501(c)(3) status with the IRS, other than institutions of higher education

Nonprofits that do not have a 501(c)(3) status with the IRS, other than institutions of higher education

Private institutions of higher education

For-profit organization other than small businesses

Small businesses

Additional Information on Eligibility: Collaborative efforts and interdisciplinary approaches are acceptable. Applications from collaborations must identify a primary applicant responsible for administering the grants.

Non-profit organizations, including faith-based and community organizations are elgible to apply. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost Sharing or Matching

The grantee must provide at least 10 percent of the total approved cost of the project. The total approved cost is the sum of the Federal share and the non-Federal share. Therefore, a project requesting $900,000 per budget period must include a match of at least $100,000 per budget period. Applicants should provide a letter of commitment verifying the actual amount of the non-Federal share of project costs.

The following example shows how to calculate the required 10% match amount for a $900,000 grant:

$900,000 (Federal share)

divided by .90 (100%-10%)

equals $1,000,000 (total project cost including match)

minus $900,000 (Federal share)

equals $100,000 (required 10% match)

The non-Federal share may be cash or in-kind contributions, although applicants are encouraged to meet their match requirements through cash contributions. If approved for funding, grantees will be held accountable for the commitment of non-Federal resources and failure to provide the required amount will result in a disallowance of unmatched Federal funds.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

Applications that exceed the $900,000 per budget period ceiling will be considered non-responsive and will not be eligible for funding under this announcement.

IV. Application and Submission Information

1. Address To Request Application Package

ACYF Operations Center, c/o The Dixon Group, Inc., 118 Q Street, NE., Washington, DC 20002-2132, (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Each application must contain the following items in the order listed:

1. Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check ‘New.’

In Item 10 of Form 424, clearly identify the Catalog of Federal Domestic Assistance (CFDA) program title and number for the program for which funds are being requested as stated in the funding opportunity announcement.

In Item 11 of Form 424, identify the single priority area the application addresses.

In Item 12 of Form 424, identify the specific geographic area to be served.

In Item 14 of Form 424, identify Congressional districts of both the applicant and project.

2. Budget Information Non-Construction Programs (Form 424A) and Budget Justification.

Follow the instructions provided. Note that Federal funds provided to States and services or other resources purchased with Federal funds may not be used to match project grants.

3. Certifications/Assurances. Applicants requesting financial assistance for nonconstruction projects must file the Standard Form 424B, ‘Assurances: Non-Construction Programs.’ Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the application.

If applicable, applicants must include a completed SPOC certification (Single Point of Contact) with the date of the SPOC contact entered in line 16, page 1 of the Form 424.

Assurances: By signing the “Signature of Authorized Representative” on the SF 424, the applicant is providing a certification and need not mail assurances for completing the following cooperative agreement requirements:

• The applicant will have the project fully functioning within 90 days of the notification of the award.

• The applicant will participate in any evaluation or technical assistance effort supported by ACYF.

• The applicant will submit all required semi-annual and final Financial Status Reports (SF269) and Program Performance Reports in a timely manner, in hard-copy and electronic formats (preferably MS WORD and PDF) as negotiated with the Federal Project Officer.

• The Resource Center Project Director or one key staff member will attend the following meetings in Washington, DC: A meeting with the Federal Project Officer and other ACYF staff within 60 days of receiving the award; two meetings annually, for one to two days each, with Children's Bureau staff and other training and technical assistance partners to plan a national training and technical assistance strategy; one meeting annually to participate in a Children's Bureau grantee meeting with the purpose of disseminating knowledge gained from work with State agencies and courts around child welfare issues.

• In situations where the applicant's organizational position on a particular policy and/or practice might differ from the Federal position, the Federal position will be used to guide the Resource Center activity and will be reflected in all public statements and publications of the Resource Center.

• The applicant will enter into a Cooperative Agreement with the Children's Bureau.

• The Resource Center will work in partnership with the Children's Bureau and the ACF Regional Offices by providing technical assistance to States that have needs identified through one of ACF's review processes.

• The Resource Center will work collaboratively with the other six National Resource Centers and AdoptUSKids.

• The Resource Center will work with the Training and Technical Assistance Coordination Committee, which will be composed of Federal staff from the Children's Bureau and Regional Offices and which will provide direction to the strategic development of the training and technical assistance network.

• The Resource Center will work collaboratively with the CB Clearinghouses and other members of the training and technical assistance network funded by the Children's Bureau in providing training and technical assistance.

• The Resource Center will work directly with the National Child Welfare Resource Center for Organizational Improvement (NCWRCOI), which will serve as a single point of entry for States and Tribes to request onsite training and technical assistance to ensure a coordinated and immediate response.

• The Resource Center will provide evaluation data to the NCWRCOI that addresses both process and outcomes to evaluate the results and benefits of the technical assistance provided.

The Office for Human Research Protections of the U.S. Department of Health and Human Services provides Web site information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable HHS regulations can be found in 45 CFR part 74 or 92.

4. Project Abstract/Summary (one page maximum). Clearly mark this page with the applicant name as shown on item 5 of the Form 424, identify the competitive grant priority area and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this priority area announcement providing information that addresses all the components.

6. Proof of non-profit status (if applicable). Any non-profit organization submitting an application must submit proof of its non-profit status in its application at the time of submission. Any of the following constitutes acceptable proof of such status:

a. A reference to the applicant organization's listing in the Internal Revenue Services' (IRS) most recent list of tax-exempt organizations described in the IRS Code.

b. A copy of a currently valid IRS tax exemption certificate.

c. A statement from a State taxing body, State attorney general, or other appropriate State official certifying that the applicant organization has a non-profit status and that none of the net earnings accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide a letter of commitment verifying the actual amount of the non-Federal share of project costs.

10. The application limit is 75 pages total including all forms and attachments. Submit one original and two copies.

To be considered for funding, each application must be submitted with the Standard Federal Forms (provided at the end of this announcement or through the electronic links provided) and following the guidance provided. The application must be signed by an individual authorized to act for the applicant organization and to assume responsibility for the obligations imposed by the terms and conditions of the grant award.

To be considered for funding, each applicant must submit one signed original and two additional copies of the application, including all forms and attachments, to the Application Receipt Point specified in the section titled Deadline. The original copy of the application must have original signatures, signed in black ink.

The application must be typed, double spaced, printed on only one side, with at least 1/2 inch margins on each side and 1 inch at the top and bottom, using standard 12 Point fonts (such as Times Roman or Courier). Pages must be numbered.

Pages over the page limit stated within this priority area announcement will be removed from the application and will not be reviewed. All copies of an application must be submitted in a single package, and a separate package must be submitted for each priority area. The package must be clearly labeled for the specific priority area it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting from application copies (not originals) specific salary rates or amounts for individuals specified in the application budget. The copies may include summary salary information.

Private non-profit organizations are encouraged to submit with their applications the survey located under “Grant Related Documents and Forms” titled “Survey for Private, Non-Profit Grant Applicants.”

Please see Section V.1. Criteria, for instructions on preparing the project summary/abstract and the full project description.

3. Submission Dates and Times

The closing time and date for receipt of applications is 4:30 p.m. eastern standard time (e.s.t.) on August 24, 2004. Mailed or handcarried applications received after 4:30 p.m. on the closing date will be classified as late.

Deadline: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., e.s.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms

What to submit | Required content | Required form or format | When to submit
1. SF424 | Per required form | May be found at http://www.acf.hhs.gov/programs/ofs/forms.htm | See application due date.
2. SF424A | Per required form | May be found at http://www.acf.hhs.gov/programs/ofs/forms.htm | See application due date.
3.a. SF424B | Per required form | May be found at http://www.acf.hhs.gov/programs/ofs/forms.htm | See application due date.
3.b. Certification regarding lobbying | Per required form | May be found at http://www.acf.hhs.gov/programs/ofs/forms.htm | See application due date.
3.c. Disclosure of Lobbying Activities (SF-LLL) | Per required form | May be found at http://www.acf.hhs.gov/programs/ofs/forms.htm | See application due date.
4. Project Summary/Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Non-Federal share letter | See above | See above | See application due date.
Total application | See above | Application limit 75 pages total including all forms and attachments. Submit one original and two copies | See application due date.

Additional Forms

Private, non-profit organizations are encouraged to submit with their applications the additional survey located under “Grant Related Documents and Forms” titled “Survey for Private, Non-Profit Grant Applicants.”

What to submit | Required content | Required form or format | When to submit
Survey for Private, Non-Profit Grant Applicants | Per required form | May be found on http://www.acf.hhs.gov/programs/ofs/forms.htm | By application due date.

4. Intergovernmental Review

State Single Point of Contact (SPOC)

This program is covered under Executive Order (E.O.) 12372, “Intergovernmental Review of Federal Programs”, and 45 CFR Part 100, “Intergovernmental Review of Department of Health and Human Services Programs and Activities”. Under the Order, States may design their own processes for reviewing and commenting on proposed Federal assistance under covered programs.

As of October 2003, of the most recent SPOC list, the following jurisdictions have elected not to participate in the Executive Order process. Applicants from these jurisdictions or for projects administered by Federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Federal funds received as a result of this announcement cannot be paid as profit to grantees or sub-grantees, i.e., any amount in excess of allowable direct and indirect costs of the recipient (45 CFR 74.81).

6. Other Submission Requirements

Submission by Mail: An applicant must provide an original application with all attachments, signed by an authorized representative and two copies. The application must be received at the address below by 4:30 p.m. eastern standard time on or before the closing date. Applications should be mailed to: ACYF Operations, The Dixon Group, ATTN: Children's Bureau, 118 Q Street, NE., Washington, DC 20002-2132.

For Hand Delivery: Applicant must provide an original application with all attachments, signed by an authorized representative and two copies. The application must be received at the address below by 4:30 PM Eastern Standard Time on or before the closing date. Applications that are hand delivered will be accepted between the hours of 8 a.m. to 4:30 p.m., Monday through Friday. Applications may be delivered to: ACYF Operations, The Dixon Group, ATTN: Children's Bureau 118 Q Street, NE, Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

Electronic Address Where Applications Will Be Accepted: www.Grants.gov.

Address Where Hard Copy Applications Will Be Accepted: Children's Bureau Grant Receipt Point, ACYF Operations Center, c/o The Dixon Group, Inc., 118 Q Street, NE., Washington, DC 20002-2132 ACYF will not acknowledge receipt of hard copy application submissions.

V. Application Review Information

Refer to Priority Area 1, Section V. Application Review Information, for information on The Paperwork Reduction Act of 1995 (Pub. L. 104-13) and General Instruction for Preparing Full Project Description.

Specific Evaluation Criteria

The following criteria will be used to review and evaluate each application under this Priority Area. The applicant should address each criterion in the project description. The point values (summing up to 100) indicate the maximum numerical weight each criterion will be accorded in the review process.

Criterion 1. Objectives and Need for Assistance

In reviewing the objectives and need for assistance, the following factors will be considered: (20 points)

1. The extent to which the applicant demonstrates a clear and thorough understanding of the need for providing coordinated training and technical assistance about preventing, reporting, assessing and treating child abuse and neglect to public and private child welfare agencies responsible for serving the target population(s), and the goals of the applicable legislative mandates.

2. The extent to which the training and technical assistance objectives of the project will effectively build the capacity of State, and local public and private agencies to support effective efforts to develop, operate, expand, and enhance initiatives improving outcomes for children, youth and families served by these agencies.

3. The extent to which the proposed project will produce significant results and benefits, and a high level of customer satisfaction on the part of agencies served and their State and local constituents.

Criterion 2. Approach

In reviewing the approach, the following factors will be considered: (50 points)

1. The extent to which there is a reasonable timeline for implementing the proposed project, including the activities to be conducted in chronological order, showing a reasonable schedule of accomplishments and target dates and the factors that may accelerate or decelerate the work. The extent to which the applicant proposes appropriate outreach and engagement activities for States, Tribes and local agencies. The extent to which a reasonable number of States and Tribes will be targeted to receive T/TA from the NRC.

2. The extent to which the applicant provides a workable plan of action. The extent to which this plan relates to the stated objectives and scope of the project and reflects the intent of the applicable legislative mandates.

3. The extent to which the applicant describes sound strategies for providing technical assistance and effectively building the capacity of State, and local public and private agencies to fulfill the legislative mandates for the target population effectively. The extent to which the applicant presents a sound plan for effectively and efficiently providing technical assistance to the agencies in the areas of child abuse and neglect prevention, investigation, comprehensive assessment, intervention, and treatment and using a family-centered model and practices, e.g., encouraging healthy marriage, community collaboration strategies, individualized services and addressing the impact of substance abuse and domestic violence on child maltreatment and on intervention strategies.

4. The extent to which the applicant will help child welfare and child protective services agencies improve services to over-represented populations, particularly minority families and children. The extent to which effective techniques will be used in assisting agencies to deliver culturally appropriate services.

5. The extent to which the Resource Center's services, program activities, and materials will be developed and provided in a manner that is racially and culturally sensitive to the population(s) being served.

6. The extent to which the applicant will effectively coordinate its activities with other National Resource Centers, AdoptUSKids, Clearinghouses, other members of the training and technical assistance network funded by the Children's Bureau, and the Training and Technical Assistance Coordination Committee made up of Federal staff from the Children's Bureau and Regional Offices.

7. The extent to which the applicant will collaborate effectively with the National Child Welfare Resource Center for Organizational Improvement in assessing training and technical assistance needs and developing and implementing a T/TA work plan in response to requests from States and Tribes for on-site training and technical assistance.

8. The extent to which the applicant will make significant annual contributions to the planning and implementation of a two to three day national meeting for Child Protective Services State Liaison Officers, and which may also include foster care managers, adoption specialists and other state staff involved in child welfare and child protective services programs.

9. The extent to which the applicant will provide effective support and coordination (which may include surveying State Liaison Officers regarding CAPTA implementation issues and TA needs) for the Child Protective Services State Liaison Officers, under the direction of the Children's Bureau.

10. The extent to which the applicant will provide appropriate process and outcome evaluation data to the NCWRCOI, so it can evaluate the results and benefits of the technical assistance provided.

Criterion 3. Organizational Profiles

In reviewing the organizational profiles, the following factors will be considered: (20 points)

1. The extent to which the applicant organization and any partnering organizations collectively have sufficient experience and expertise (including experience on the national level) in: (1) Identifying the training and technical assistance needs of an agency or organization; (2) developing or participating in the development of a plan to meet those needs; (3) designing, developing and delivering training and technical assistance including recruiting, assigning, and deploying staff with appropriate experience; (4) developing evaluation strategies and providing technical assistance on evaluation methodologies, (5) designing, developing, delivering and evaluating training materials, (6) establishing effective working partnerships with other agencies and organizations; and (7) administering, developing, implementing, managing, and evaluating similar projects. The extent to which each participating organization (including partners and/or subcontractors) possesses the organizational capability to fulfill their assigned roles and functions effectively (if the application involves partnering and/or subcontracting with other agencies/organizations).

2. The extent to which the applicant's project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

3. The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification

In reviewing the budget and budget justification, the following factors will be considered: (10 points)

1. The extent to which the costs of the proposed project are reasonable, in view of the activities to be conducted and expected results and benefits.

2. The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. Reviewers will be looking to see that the total budget you propose and the way you have apportioned that budget are appropriate and reasonable for the project you have described. Remember that the reviewers only have the information that you give them “ it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions.

Available Funds: Applicants should note that grants to be awarded under this program announcement are subject to the availability of funds. The size of the actual awards will vary. In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

Priority Area 3—National Resource Center for Family-Centered Practice and Permanency Planning

Purpose: The purpose of establishing the National Resource Center for Family Centered Practice and Permanency Planning is to build the capacity of State, local, Tribal, and other publicly administered or publicly supported child welfare agencies to institutionalize a safety-focused, family-centered, and community-based approach to meet the multiple and complex needs of children and families; to develop, support and maintain a range of services to maintain children safely in the home when appropriate; to provide quality care for children in the care and custody of the State; to plan effectively for and move children from foster care to safe, permanent home placements; to assess the child and family's strengths and needs; to remediate family needs and build on strengths; to provide supports to prevent recidivism; to engage all family members, including fathers; to implement the Federal legislation administered by the Children's Bureau; and to achieve the goals of ASFA, MEPA and ICWA. Technical assistance activities to be conducted by the National Resource Center for Family-Centered Practice and Permanency Planning will include, but are not limited to:

(1) Fostering an understanding, appreciation, and knowledge of effective permanency planning, including concurrent planning, resulting in improved outcomes for the children, youth and families in the Child Welfare System;

(2) Facilitating and assisting State, local, tribal, public and private agencies in the coordinated planning and development of a range of services and supports to safely maintain children in the home when appropriate, provide quality care for children in the care and custody of the State and achieve permanency plans for children and youth;

(3) Conducting regular and ongoing needs assessments that will be used to identify unmet needs and which also incorporate findings from other statewide needs assessment processes such as the Child and Family Services Review; and developing a national technical assistance strategy to improve family-centered practice and permanency planning.

(4) Providing on-site technical assistance, training and consultation to State and Tribal child welfare agencies;

(5) Identifying and disseminating promising and innovative practices that address emerging child welfare issues related to safety-focused, family-centered practices and effective community collaboration strategies and foster care and permanency planning;

(6) Demonstrating a commitment to meaningful stakeholder involvement, especially youth in foster care and those members of other underrepresented or underserved groups;

(7) Supporting States in their Program Improvement Plans resulting from Child and Family Service Reviews;

(8) Building the capacity of child welfare agencies and courts by developing and disseminating materials, including curricula, guidelines and training materials;

(9) Providing financial support and effective coordination for the National Association of State Foster Care Managers (NASFCM). The purpose of this Association is to develop a collegial group of State foster care managers to keep each other informed on the latest program, policy and practice developments, laws, and strategies to maintain an efficient, state-of-the- art foster care and permanency planning program to improve the outcomes of safety, permanency and well-being for children in foster care. It is anticipated that NASFCM will meet once a year to discuss relevant issues and will include relevant Children's Bureau staff in the meeting;

(10) Coordinating with the Children's Bureau, ACF Regional Offices and State and Tribal agencies in the development of the annual technical assistance and training strategy;

(11) Processing all on-site T/TA requests through the single point of entry established by the NCWRCOI, which will involve the Regional Office staff, the appropriate NRCs or AdoptUSKids, and Children's Bureau staff as needed, as well as any other critical stakeholder to facilitate an assessment of T/TA needs and a coordinated and immediate response that avoids delays or duplication of effort;

(12) Participating in twice-a-year team meetings of the Training and Technical Assistance Network funded by the Children's Bureau, and the Training and Technical Assistance Coordination Committee;

(13) Collaborating with other ACYF Resource Centers, other agencies in the Department of Health and Human Services and other agents of the Children's Bureau to strengthen TA efforts, avoid duplication and manage resources effectively;

(14) Providing information and cooperation needed by the NCWRCOI as it manages, maintains and updates to improve functionality, when needed, the web-based tracking system for training and technical assistance requests developed for the Children's Bureau to track NRC's responses to T/TA requests from State, local, Tribal and other publicly supported child welfare agencies; and

(15) Providing data needed by the NCWRCOI to evaluate the results and benefits of the technical assistance provided by the National Resource Center.

Expected outcomes include the enhanced capacity of each State agency to:

(1) Develop, support, and maintain a range of services and supports, including effective safety-focused, family-centered practices and effective community collaboration strategies; prevention and support services for children and families to safely maintain children in the home when appropriate; supports to prevent recidivism after reunification; comprehensive family assessments; engagement of all members of the family, including fathers; integration of substance abuse and domestic violence services; and permanency planning services to assist children and their families in achieving positive outcomes in permanency, safety and well-being;

(2) Conduct interagency needs assessments of required services;

(3) Facilitate concurrent planning, dual licensure of foster homes and other effective permanency program and policy development; and to facilitate safety-focused, family-centered services, family assessment, encouraging healthy marriages, engagement of all family members, including fathers; collaborative community-based services; and substance abuse and domestic violence program and policy development;

(4) Coordinate the delivery of foster care and permanency planning services; and

(5) Promote the meaningful participation of stakeholders in the design and implementation of services.

The goal of the National Resource Center for Family-Centered Practice and Permanency Planning is to help strengthen the capacity of agencies to integrate policy and practice; to institutionalize a safety-focused, family-centered, and community-based approach to meet the multiple and complex needs of children and families; to develop, support and maintain a range of services to maintain children safely in the home when appropriate; to provide quality care for children in the care and custody of the State; to plan for and move children from foster care to safe, permanent home placements effectively; to assess the child and family's strengths and needs; to remediate family needs and build on strengths; to provide supports to prevent recidivism; to engage all family members, including fathers; and to implement the Federal legislation administered by the Children's Bureau. The Resource Center will also be expected to build the capacity of child welfare agencies and courts by developing and distributing brochures, technical assistance announcements, articles, and other materials. The Resource Center will be expected to be creative and innovative in responding to questions and requests from the State agencies as well as developing new materials on cutting edge issues as they emerge from Federal and State legislation, new regulations and other developments in the child welfare field. Technical assistance outcomes should be achieved through a combination of strategies, including on-site training, on and off-site technical assistance, and consultation with all appropriate stakeholder groups. The Resource Center will be expected to forge strong links with the full range of Children's Bureau resource centers and support contractors, including joint training and technical assistance presentations and resources development.

II.Award Information

Funding Instrument Type: Cooperative agreement.

Description of Federal Substantial Involvement With Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Anticipated Total Program Funding: The anticipated total for the award under this priority area in FY2004 is $1,200,000.

Anticipated Number of Awards: It is anticipated that one project will be funded.

Ceiling on Amount of Individual Awards: The award amount will not exceed $1,200,000 in the first budget period. An application received that exceeds the upper value of the dollar range specified will be considered “non-responsive” and be returned to the applicant without further review.

Floor of Individual Award Amounts: None.

Average Anticipated Award Amount: $1,200,000 per budget period.

Project Periods for Awards: This grant will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Nonprofits having a 501(c)(3) status with the IRS, other than institutions of higher education

Nonprofits that do not have a 501(c)(3) status with the IRS, other than institutions of higher education

Private institutions of higher education

For-profit organization other than small businesses

Small businesses

Additional Information on Eligibility: Collaborative efforts and interdisciplinary approaches are acceptable. Applications from collaborations must identify a primary applicant responsible for administering the grants.

Non-profit organizations, including faith-based and community organizations are eligible to apply. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost Sharing or Matching

The grantee must provide at least 10 percent of the total approved cost of the project. The total approved cost is the sum of the Federal share and the non-Federal share. Therefore, a project requesting $1,200,000 per budget period must include a match of at least $133,333 per budget period. Applicants should provide a letter of commitment verifying the actual amount of the non-Federal share of project costs.

The following example shows how to calculate the required 10% match amount for a $1,200,000 grant:

$1,200,000 (Federal share)

divided by .90 (100%-10%)

equals $1,333,333 (total project cost including match)

minus $1,200,000 (Federal share)

equals $133,333 (required 10% match)

The non-Federal share may be cash or in-kind contributions, although applicants are encouraged to meet their match requirements through cash contributions. If approved for funding, grantees will be held accountable for the commitment of non-Federal resources and failure to provide the required amount will result in a disallowance of unmatched Federal funds.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

Applications that exceed the $1,200,000 ceiling will be considered non-responsive and will not be eligible for funding under this announcement.

IV. Application and Submission Information

1. Address To Request Application Package

ACYF Operations Center, c/o The Dixon Group, Inc., 118 Q Street, NE., Washington, DC 20002-2132, (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Each application must contain the following items in the order listed:

1. Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check “New.”

In Item 10 of Form 424, clearly identify the Catalog of Federal Domestic Assistance (CFDA) program title and number for the program for which funds are being requested as stated in the funding opportunity announcement.

In Item 11 of Form 424, identify the single priority area the application addresses.

In Item 12 of Form 424, identify the specific geographic area to be served.

In Item 14 of Form 424, identify Congressional districts of both the applicant and project.

2. Budget Information Non-Construction Programs (Form 424A) and Budget Justification.

Follow the instructions provided. Note that Federal funds provided to States and services or other resources purchased with Federal funds may not be used to match project grants.

3. Certifications/Assurances. Applicants requesting financial assistance for nonconstruction projects must file the Standard Form 424B, “Assurances: Non-Construction Programs.” Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the application.

If applicable, applicants must include a completed SPOC certification (Single Point of Contact) with the date of the SPOC contact entered in line 16, page 1 of the Form 424.

Assurances: By signing the “Signature of Authorized Representative” on the SF 424, the applicant is providing a certification and need not mail assurances for completing the following cooperative agreement requirements:

• The applicant will have the project fully functioning within 90 days of the notification of the award.

• The applicant will participate in any evaluation or technical assistance effort supported by ACYF.

• The applicant will submit all required semi-annual and final Financial Status Reports (SF269) and Program Performance Reports in a timely manner, in hard-copy and electronic formats (preferably MS WORD and PDF) as negotiated with the Federal Project Officer.

• The Resource Center Project Director or one key staff member will attend the following meetings in Washington, DC: A meeting with the Federal Project Officer and other ACYF staff within 60 days of receiving the award; two meetings annually, for one to two days each, with Children's Bureau staff and other training and technical assistance partners to plan a national training and technical assistance strategy; one meeting annually to participate in a Children's Bureau grantee meeting with the purpose of disseminating knowledge gained from work with State agencies and courts around child welfare issues.

• In situations where the applicant's organizational position on a particular policy and/or practice might differ from the Federal position, the Federal position will be used to guide the Resource Center activity and will be reflected in all public statements and publications of the Resource Center.

• The applicant will enter into a Cooperative Agreement with the Children's Bureau.

• The Resource Center will work in partnership with the Children's Bureau and the ACF Regional Offices by providing technical assistance to States that have needs identified through one of ACF's review processes.

• The Resource Center will work collaboratively with the other six National Resource Centers and AdoptUSKids.

• The Resource Center will work with the Training and Technical Assistance Coordination Committee, which will be composed of Federal staff from the Children's Bureau and Regional Offices and which will provide direction to the strategic development of the training and technical assistance network.

• The Resource Center will work collaboratively with the CB Clearinghouses and other members of the training and technical assistance network funded by the Children's Bureau in providing training and technical assistance.

• The Resource Center will work directly with the National Child Welfare Resource Center for Organizational Improvement (NCWRCOI), which will serve as a single point of entry for States and Tribes to request onsite training and technical assistance to ensure a coordinated and immediate response.

• The Resource Center will provide evaluation data to the NCWRCOI that addresses both process and outcomes to evaluate the results and benefits of the technical assistance provided.

The Office for Human Research Protections of the U.S. Department of Health and Human Services provides Web site information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable HHS regulations can be found in 45 CFR part 74 or 92.

4. Project Abstract/Summary (one page maximum). Clearly mark this page with the applicant name as shown on item 5 of the Form 424, identify the competitive grant priority area and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this priority area announcement providing information that addresses all the components.

6. Proof of non-profit status (if applicable). Any non-profit organization submitting an application must submit proof of its non-profit status in its application at the time of submission. Any of the following constitutes acceptable proof of such status:

a. A reference to the applicant organization's listing in the Internal Revenue Services' (IRS) most recent list of tax-exempt organizations described in the IRS Code.

b. A copy of a currently valid IRS tax exemption certificate.

c. A statement from a State taxing body, State attorney general, or other appropriate State official certifying that the applicant organization has a non-profit status and that none of the net earnings accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide a letter of commitment verifying the actual amount of the non-Federal share of project costs.

10. The application limit is 75 pages total including all forms and attachments. Submit one original and two copies.

To be considered for funding, each application must be submitted with the Standard Federal Forms (provided at the end of this announcement or through the electronic links provided) and following the guidance provided. The application must be signed by an individual authorized to act for the applicant organization and to assume responsibility for the obligations imposed by the terms and conditions of the grant award.

To be considered for funding, each applicant must submit one signed original and two additional copies of the application, including all forms and attachments, to the Application Receipt Point specified in the section titled Deadline. The original copy of the application must have original signatures, signed in black ink.

The application must be typed, double spaced, printed on only one side, with at least 1/2 inch margins on each side and 1 inch at the top and bottom, using standard 12 Point fonts (such as Times Roman or Courier). Pages must be numbered.

Pages over the page limit stated within this priority area announcement will be removed from the application and will not be reviewed. All copies of an application must be submitted in a single package, and a separate package must be submitted for each priority area. The package must be clearly labeled for the specific priority area it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting from application copies (not originals) specific salary rates or amounts for individuals specified in the application budget. The copies may include summary salary information.

Private non-profit organizations are encouraged to submit with their applications the survey located under “Grant Related Documents and Forms” titled “Survey for Private, Non-Profit Grant Applicants.”

Please see Section V.1. Criteria, for instructions on preparing the project summary/abstract and the full project description.

3. Submission Dates and Times

The closing time and date for receipt of applications is 4:30 p.m. eastern standard time (e.s.t.) on August 24, 2004. Mailed or handcarried applications received after 4:30 p.m. on the closing date will be classified as late.

Deadline: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., e.s.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms

What to submit | Required content | Required form or format | When to submit
1. SF424 | Per required form | May be found at http://www.acf.hhs.gov/programs/ofs/forms.htm | See application due date.
2. SF424A | Per required form | May be found at http://www.acf.hhs.gov/programs/ofs/forms.htm | See application due date.
3.a. SF424B | Per required form | May be found at http://www.acf.hhs.gov/programs/ofs/forms.htm | See application due date.
3.b. Certification regarding lobbying | Per required form | May be found at http://www.acf.hhs.gov/programs/ofs/forms.htm | See application due date.
3.c. Disclosure of Lobbying Activities (SF-LLL) | Per required form | May be found at http://www.acf.hhs.gov/programs/ofs/forms.htm | See application due date.
4. Project Summary/Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Non-Federal share letter | See above | See above | See application due date.
Total application | See above | Application limit 75 pages total including all forms and attachments. Submit one original and two copies | See application due date.

Additional Forms

Private, non-profit organizations are encouraged to submit with their applications the additional survey located under “Grant Related Documents and Forms” titled “Survey for Private, Non-Profit Grant Applicants.”

What to submit | Required content | Required form or format | When to submit
Survey for Private, Non-Profit Grant Applicants | Per required form | May be found on http://www.acf.hhs.gov/programs/ofs/forms.htm | By application due date.

4. Intergovernmental Review

State Single Point of Contact (SPOC)

This program is covered under Executive Order (E.O.) 12372, “Intergovernmental Review of Federal Programs”, and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by Federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Federal funds received as a result of this announcement cannot be paid as profit to grantees or sub-grantees, i.e., any amount in excess of allowable direct and indirect costs of the recipient (45 CFR 74.81).

6. Other Submission Requirements

Submission by Mail: An applicant must provide an original application with all attachments, signed by an authorized representative and two copies. The application must be received at the address below by 4:30 p.m. eastern standard time on or before the closing date. Applications should be mailed to: ACYF Operations, The Dixon Group, ATTN: Children's Bureau, 118 Q Street, NE., Washington, DC 20002-2132.

For Hand Delivery: Applicant must provide an original application with all attachments, signed by an authorized representative and two copies. The application must be received at the address below by 4:30 p.m. eastern standard time on or before the closing date. Applications that are hand delivered will be accepted between the hours of 8 a.m. to 4:30 p.m., Monday through Friday. Applications may be delivered to: ACYF Operations, The Dixon Group, ATTN: Children's Bureau 118 Q Street, NE., Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

Electronic Address Where Applications Will Be Accepted: www.Grants.gov.

Address Where Hard Copy Applications Will Be Accepted: Children's Bureau Grant Receipt Point, ACYF Operations Center, c/o The Dixon Group, Inc., 118 Q Street, NE., Washington, DC 20002-2132

ACYF will not acknowledge receipt of hard copy application submissions.

V. Application Review Information

Refer to Priority Area 1, Section V. Application Review Information, for information on The Paperwork Reduction Act of 1995 (Pub. L. 104-13) and General Instruction for Preparing Full Project Description.

Specific Evaluation Criteria

The following criteria will be used to review and evaluate each application under this Priority Area. The applicant should address each criterion in the project description. The point values (summing up to 100) indicate the maximum numerical weight each criterion will be accorded in the review process.

Criterion 1. Objectives and Need for Assistance

In reviewing the objectives and need for assistance, the following factors will be considered: (20 points)

(1) The extent to which the applicant demonstrates a clear and thorough understanding of the need for providing coordinated training and technical assistance about foster care and permanency planning and family-centered practice to public and private child welfare agencies responsible for serving the target population(s), and the goals of the applicable legislative mandates.

(2) The extent to which the training and technical assistance objectives of the project will build the capacity of State, and local public and private agencies to support effective efforts to develop, operate, expand, and enhance initiatives improving outcomes for children, youth and families served by these agencies.

(3) The extent to which the proposed project will produce significant results and benefits, and a high level of customer satisfaction on the part of agencies served and their State and local constituents.

Criterion 2. Approach

In reviewing the approach, the following factors will be considered: (50 points)

(1) The extent to which there is a reasonable timeline for implementing the proposed project, including the activities to be conducted in chronological order, showing a reasonable schedule of accomplishments and target dates and the factors that may accelerate or decelerate the work. The extent to which the applicant proposes appropriate outreach and engagement activities for States, Tribes and local agencies. The extent to which a reasonable number of States and Tribes will be targeted to receive T/TA from the NRC.

(2) The extent to which the applicant provides a workable plan of action. The extent to which this plan relates to the stated objectives and scope of the project and reflects the intent of the legislative mandates.

(3) The extent to which the applicant describes sound strategies for providing technical assistance and effectively building the capacity of State, and local public and private agencies in the following areas: Effective family-centered practice; safely maintaining children in the home when appropriate and providing supports to prevent recidivism after reunification; collaborative, community-based services; integrated substance abuse and domestic violence services; conducting comprehensive family assessments; encouraging healthy marriages, engaging all family members, including fathers; and permanency planning to achieve permanency, safety and well-being for children and youth served by the child welfare system.

(4) The extent to which the applicant describes strategies which will be employed to help child welfare agencies deliver family-centered practices; and innovative and exemplary foster care and permanency planning programs. Include planning, collaboration, and implementation methods; service development strategies; practice techniques; resources such as training curricula and educational materials.

(5) The extent to which the applicant will help States improve services to underrepresented and over-represented populations, particularly minority families and children in care. The extent to which the Resource Center will effectively assess factors which impede the delivery of culturally appropriate services and assist agencies in reducing these factors. The extent to which the Resource Center's services, program activities, and materials will be developed and provided in a manner that is racially and culturally sensitive to the population(s) being served while being inclusive of a range of adoption resources.

(6) The extent to which the applicant provides a sound plan for assisting agencies in developing effective practices which are consistent with the anti-discriminatory placement and recruitment provisions of the Multiethnic Placement Act (MEPA), the Inter-Ethnic Adoption Provisions (IEP), and the interjurisdictional provisions of ASFA.

(7) The extent to which the applicant will collaborate effectively with the National Child Welfare Resource Center for Organizational Improvement in assessing training and technical assistance needs and developing and implementing a T/TA work plan in response to requests from States and Tribes for on-site training and technical assistance.

(8) The extent to which the applicant will provide appropriate process and outcome evaluation data to the NCWRCOI, so it can evaluate the results and benefits of the technical assistance provided.

(9) The extent to which the applicant will effectively coordinate its activities with other National Resource Centers, AdoptUSKids, Clearinghouses, other members of the training and technical assistance network funded by the Children's Bureau, and the Training and Technical Assistance Coordination Committee made up of Federal staff from the Children's Bureau and Regional Offices.

(10) The extent to which the applicant describes a sound plan for conducting or providing partial financial support for a two to three day national conference for State foster care managers that also includes adoption specialists and state staff involved in child welfare programs.

(11) The extent to which the applicant will provide financial support and effective coordination for the National Association of State Foster Care Managers (NASFCM) as described in the beginning of this funding announcement.

Criterion 3. Organizational Profiles

In reviewing the organizational profiles, the following factors will be considered: (20 points)

(1) The extent to which the applicant organization and any partnering organizations collectively have sufficient experience and expertise (including experience on the national level) in: (1) Identifying the training and technical assistance needs of an agency or organization; (2) developing or participating in the development of a plan to meet those needs; (3) designing, developing and delivering training and technical assistance including recruiting, assigning, and deploying staff with appropriate experience; (4) developing evaluation strategies and providing technical assistance on evaluation methodologies, (5) designing, developing, delivering and evaluating training materials, (6) establishing effective working partnerships with other agencies and organizations; and (7) administering, developing, implementing, managing, and evaluating similar projects. The extent to which each participating organization (including partners and/or subcontractors) possesses the organizational capability to fulfill their assigned roles and functions effectively (if the application involves partnering and/or subcontracting with other agencies/organizations).

(2) The extent to which the applicant's project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

(3) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification

In reviewing the budget and budget justification, the following factors will be considered: (10 points)

(1) The extent to which the costs of the proposed project are reasonable, in view of the activities to be conducted and expected results and benefits.

(2) The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions.

Available Funds: Applicants should note that grants to be awarded under this program announcement are subject to the availability of funds. The size of the actual awards will vary. In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

Priority Area 4—National Resource Center for Child Welfare Data and Technology

Purpose: The purpose of this Cooperative Agreement is to assist States to develop, implement and/or improve effective case management and data collection information systems and to use data to enable State child welfare agencies to manage child welfare programs in order to improve outcomes for children and families. This Resource Center will provide training and technical assistance to enhance State child welfare program managers' and caseworkers' ability to analyze data for purposes of program evaluation. This effort will also support the coordination of the information systems operated by child welfare agencies and family and juvenile courts that are used to manage child welfare cases. This Resource Center will provide support to States and ACF to increase the quality and utilization of Federal data collection and reporting efforts, such as, AFCARS, NCANDS, and Chafee.

Activities to be conducted during the five-year period covered by this cooperative agreement with the Resource Center for Child Welfare Data and Technology will include, but are not limited to:

(1) Coordinating with the Children's Bureau, ACF Regional Offices and State agencies in the development of a national training and technical assistance strategy to promote the effective analysis and use of data as well as improvements to State information systems;

(2) Providing on-site technical assistance, training and consultation to State and Tribal child welfare agencies to improve the collection, reporting, use, and analysis of Federal child welfare data, improve inter- and intra-departmental collaborations to improve outcomes for children and families, and enhance collaboration among child welfare practitioners, policy and information technology staffs;

(3) Enhancing the capacity of State personnel to recognize the relationship between the use of effective automation and obtaining reliable data to measure movement toward achieving established outcomes and program goals;

(4) Sharing information on the effective use of child welfare information systems, the collection and utilization of data, or the use of data in self-assessment activities, specifically between State child welfare agency and family and juvenile court staff as they develop information systems and use data generated by those systems to support the management of child welfare cases under their purview;

(5) Building the capacity of State and Tribal agency managers and administrators, workers and court personnel to use child welfare data in making policy, practice, and management decisions;

(6) Identifying and developing training curriculum to enhance cooperation between State program and State information system staff to work together to meet the challenge of data collection and use;

(7) Identifying and disseminating materials on exemplary and innovative child welfare information systems and technologies that are used to support practice and improve outcomes for children effectively;

(8) Identifying and disseminating materials on effective quality assurance strategies; worker training on data and information systems; agency and court information system collaboration, and data and technology practices;

(9) Coordinating with the Children's Bureau, State agencies and ACF Regional Offices in the development of annual data utilization and information systems conferences, including Regional meetings with States and Federal staff;

(10) Providing support to the National State peer-to-peer network, which supports and enhances networking among State child welfare staff, administrators, supervisors, and program managers, both technical and program personnel to design, develop and implement effective automation capable of supporting case practice;

(11) Supporting States and localities in their Program Improvement Plans resulting from Child and Family Service Reviews;

(12) Supporting States in their action plans resulting from AFCARS and SACWIS reviews;

(13) Supporting States in completing the development of their SACWIS systems;

(14) Coordinating with the Children's Bureau, ACF Regional Offices and State and Tribal agencies in the development of the annual technical assistance and training strategy;

(15) Processing all on-site T/TA requests through the single point of entry established by the NCWRCOI, which will involve the Regional Office staff, the appropriate NRCs or AdoptUSKids, and Children's Bureau staff as needed, as well as any other critical stakeholder to facilitate an assessment of T/TA needs and a coordinated and immediate response that avoids delays or duplication of effort;

(16) Participating in twice-a-year team meetings of the Training and Technical Assistance Network funded by the Children's Bureau, and the Training and Technical Assistance Coordination Committee;

(17) Collaborating with other ACYF Resource Centers, other agencies in the Department of Health and Human Services and other agents of the Children's Bureau to strengthen TA efforts, avoid duplication and manage resources effectively;

(18) Providing information and cooperation needed by the NCWRCOI as it manages, maintains and updates to improve functionality, when needed, the web-based tracking system for training and technical assistance requests developed for the Children's Bureau to track NRCs responses to T/TA requests from State, local, Tribal and other publicly supported child welfare agencies; and

(19) Providing data needed by the NCWRCOI to evaluate the results and benefits of the technical assistance provided by the National Resource Center.

Expected outcomes include the enhanced capacity of each State agency to:

(1) Develop and maintain a range of services and supports to assist public agencies in developing and maintaining effective case management information systems;

(2) Conduct interagency needs assessments of required services;

(3) Facilitate the development and completion of the States' SACWIS;

(4) Conduct program evaluations that include a peer review component and other evaluation methodologies.

(5) Assist front-line workers, supervisors and administrators, as well as judges and court administrative personnel, in using technology and information to improve policy and practice in child welfare; and

(6) Evaluate how to verify that an agency's information system is equipped to meet the reporting requirements of AFCARS, NCANDS, and other future Federal data collection requirements.

This Resource Center is expected to train and assist State agencies to examine and analyze the effective use of automation in meeting program requirements, goals, objectives and data reporting requirements.

Training and technical assistance needs will be identified by NRC staff in collaboration with States, the CB T/TA Coordinating Committee, and coordinated with other ongoing national training and technical assistance efforts. The Resource Center will also be actively involved with identifying other training and technical assistance needs based on their work with the other NRCs and national organizations. Training outcomes should be achieved through a combination of strategies, including on-site training, on and off-site technical assistance, and consultation with all appropriate stakeholder groups.

II. Award Information

Funding Instrument Type: Cooperative agreement.

Description of Federal Substantial Involvement With Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Anticipated Total Program Funding: The anticipated total for the award under this priority area in FY2004 is $800,000.

Anticipated Number of Awards: It is anticipated that one project will be funded.

Ceiling on Amount of Individual Awards: The award amount will not exceed $800,000 in the first budget period. An application received that exceeds the upper value of the dollar range specified will be considered “non-responsive” and be returned to the applicant without further review.

Floor of Individual Award Amounts: None.

Average Anticipated Award Amount: $800,000 per budget period.

Project Periods for Awards: This grant will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Nonprofits having a 501(c)(3) status with the IRS, other than institutions of higher education

Nonprofits that do not have a 501(c)(3) status with the IRS, other than institutions of higher education

Private institutions of higher education

For-profit organization other than small businesses

Small businesses

Additional Information on Eligibility: Collaborative efforts and interdisciplinary approaches are acceptable. Applications from collaborations must identify a primary applicant responsible for administering the grants.

Non-profit organizations, including faith-based and community organizations are eligible to apply. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost Sharing or Matching

The grantee must provide at least 10 percent of the total approved cost of the project. The total approved cost is the sum of the Federal share and the non-Federal share. Therefore, a project requesting $800,000 per budget period must include a match of at least $88,889 per budget period. Applicants should provide a letter of commitment verifying the actual amount of the non-Federal share of project costs.

The following example shows how to calculate the required 10% match amount for an $800,000 grant:

$800,000 (Federal share)

divided by .90 (100%-10%)

equals $888,889 (total project cost including match)

minus $800,000 (Federal share)

equals $88,889 (required 10% match)

The non-Federal share may be cash or in-kind contributions, although applicants are encouraged to meet their match requirements through cash contributions. If approved for funding, grantees will be held accountable for the commitment of non-Federal resources and failure to provide the required amount will result in a disallowance of unmatched Federal funds.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

Applications that exceed the $800,000 per budget period ceiling will be considered non-responsive and will not be eligible for funding under this announcement.

IV. Application and Submission Information

1. Address To Request Application Package

ACYF Operations Center, c/o The Dixon Group, Inc., 118 Q Street, NE., Washington, DC 20002-2132, (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Each application must contain the following items in the order listed:

1. Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check “New.”

In Item 10 of Form 424, clearly identify the Catalog of Federal Domestic Assistance (CFDA) program title and number for the program for which funds are being requested as stated in the funding opportunity announcement.

In Item 11 of Form 424, identify the single priority area the application addresses.

In Item 12 of Form 424, identify the specific geographic area to be served.

In Item 14 of Form 424, identify Congressional districts of both the applicant and project.

2. Budget Information Non-Construction Programs (Form 424A) and Budget Justification.

Follow the instructions provided. Note that Federal funds provided to States and services or other resources purchased with Federal funds may not be used to match project grants.

3. Certifications/Assurances. Applicants requesting financial assistance for nonconstruction projects must file the Standard Form 424B, “Assurances: Non-Construction Programs.” Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the application.

If applicable, applicants must include a completed SPOC certification (Single Point of Contact) with the date of the SPOC contact entered in line 16, page 1 of the Form 424.

Assurances: By signing the “Signature of Authorized Representative” on the SF 424, the applicant is providing a certification and need not mail assurances for completing the following cooperative agreement requirements:

• The applicant will have the project fully functioning within 90 days of the notification of the award.

• The applicant will participate in any evaluation or technical assistance effort supported by ACYF.

• The applicant will submit all required semi-annual and final Financial Status Reports (SF269) and Program Performance Reports in a timely manner, in hard-copy and electronic formats (preferably MS WORD and PDF) as negotiated with the Federal Project Officer.

• The Resource Center Project Director or one key staff member will attend the following meetings in Washington, DC: A meeting with the Federal Project Officer and other ACYF staff within 60 days of receiving the award; two meetings annually, for one to two days each, with Children's Bureau staff and other training and technical assistance partners to plan a national training and technical assistance strategy; one meeting annually to participate in a Children's Bureau grantee meeting with the purpose of disseminating knowledge gained from work with State agencies and courts around child welfare issues.

• In situations where the applicant's organizational position on a particular policy and/or practice might differ from the Federal position, the Federal position will be used to guide the Resource Center activity and will be reflected in all public statements and publications of the Resource Center.

• The applicant will enter into a Cooperative Agreement with the Children's Bureau.

• The Resource Center will work in partnership with the Children's Bureau and the ACF Regional Offices by providing technical assistance to States that have needs identified through one of ACF's review processes.

• The Resource Center will work collaboratively with the other six National Resource Centers and AdoptUSKids.

• The Resource Center will work with the Training and Technical Assistance Coordination Committee, which will be composed of Federal staff from the Children's Bureau and Regional Offices and which will provide direction to the strategic development of the training and technical assistance network.

• The Resource Center will work collaboratively with the CB Clearinghouses and other members of the training and technical assistance network funded by the Children's Bureau in providing training and technical assistance.

• The Resource Center for Child Welfare Data and Technology, or any subgrantee, will not bid on any contractual work conducted by States to develop, implement or operate their child welfare management systems.

• The Resource Center will work directly with the National Child Welfare Resource Center for Organizational Improvement (NCWRCOI), which will serve as a single point of entry for States and Tribes to request onsite training and technical assistance to ensure a coordinated and immediate response.

• The Resource Center will provide evaluation data to the NCWRCOI that addresses both process and outcomes to evaluate the results and benefits of the technical assistance provided.

The Office for Human Research Protections of the U.S. Department of Health and Human Services provides Web site information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable HHS regulations can be found in 45 CFR part 74 or 92.

4. Project Abstract/Summary (one page maximum). Clearly mark this page with the applicant name as shown on item 5 of the Form 424, identify the competitive grant priority area and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this priority area announcement providing information that addresses all the components.

6. Proof of non-profit status (if applicable). Any non-profit organization submitting an application must submit proof of its non-profit status in its application at the time of submission. Any of the following constitutes acceptable proof of such status:

a. A reference to the applicant organization's listing in the Internal Revenue Services' (IRS) most recent list of tax-exempt organizations described in the IRS Code.

b. A copy of a currently valid IRS tax exemption certificate.

c. A statement from a State taxing body, State attorney general, or other appropriate State official certifying that the applicant organization has a non-profit status and that none of the net earnings accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide a letter of commitment verifying the actual amount of the non-Federal share of project costs.

10. The application limit is 75 pages total including all forms and attachments. Submit one original and two copies.

To be considered for funding, each application must be submitted with the Standard Federal Forms (provided at the end of this announcement or through the electronic links provided) and following the guidance provided. The application must be signed by an individual authorized to act for the applicant organization and to assume responsibility for the obligations imposed by the terms and conditions of the grant award.

To be considered for funding, each applicant must submit one signed original and two additional copies of the application, including all forms and attachments, to the Application Receipt Point specified in the section titled Deadline. The original copy of the application must have original signatures, signed in black ink.

The application must be typed, double spaced, printed on only one side, with at least ½ inch margins on each side and 1 inch at the top and bottom, using standard 12 Point fonts (such as Times Roman or Courier). Pages must be numbered.

Pages over the page limit stated within this priority area announcement will be removed from the application and will not be reviewed. All copies of an application must be submitted in a single package, and a separate package must be submitted for each priority area. The package must be clearly labeled for the specific priority area it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting from application copies (not originals) specific salary rates or amounts for individuals specified in the application budget. The copies may include summary salary information.

Private non-profit organizations are encouraged to submit with their applications the survey located under “Grant Related Documents and Forms” titled “Survey for Private, Non-Profit Grant Applicants.”

Please see Section V.1. Criteria, for instructions on preparing the project summary/abstract and the full project description.

3. Submission Dates and Times

The closing time and date for receipt of applications is 4:30 p.m. eastern standard time (e.s.t.) on August 24, 2004. Mailed or handcarried applications received after 4:30 p.m. on the closing date will be classified as late.

Deadline: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., e.s.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms

What to submit | Required content | Required form or format | When to submit
1. SF424 | Per required form | May be found at http://www.acf.hhs.gov/programs/ofs/forms.htm | See application due date.
2. SF424A | Per required form | May be found at http://www.acf.hhs.gov/programs/ofs/forms.htm | See application due date.
3.a. SF424B | Per required form | May be found at http://www.acf.hhs.gov/programs/ofs/forms.htm | See application due date.
3.b. Certification regarding | Per required form | May be found at http://www.acf.hhs.gov/programs/ofs/forms.htm | See application due date.
3.c. Disclosure of Lobbying Activities (SF-LLL) | Per required form | May be found at http://www.acf.hhs.gov/programs/ofs/forms.htm | See application due date.
4. Project Summary/Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Non-Federal share letter | See above | See above | See application due date.
Total application | See above | Application limit 75 pages total including all forms and attachments. Submit one original two copies | See application due date.

Additional Forms

Private, non-profit organizations are encouraged to submit with their applications the additional survey located under “Grant Related Documents and Forms” titled “Survey for Private, Non-Profit Grant Applicants.”

What to submit | Required content | Required form or format | When to submit
Survey for Private, Non-Profit | Per required form | May be found on http://www.acf.hhs.gov/programs/ofs/forms.htm | By application due date.

4. Intergovernmental Review

State Single Point of Contact (SPOC)

This program is covered under Executive Order (E.O.) 12372,

“Intergovernmental Review of Federal Program” and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Apllicants from these jurisdictions or for projects administered by Federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Vriginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Federal funds received as a result of this announcement cannot be paid as profit to grantees or sub-grantees, i.e., any amount in excess of allowable direct and indirect costs of the recipient (45 CFR 74.81).

6. Other Submission Requirements

Submission by Mail: An applicant must provide an original application with all attachments, signed by an authorized representative and two copies. The application must be received at the address below by 4:30 p.m. eastern standard time on or before the closing date. Applications should be mailed to: ACYF Operations, The Dixon Group, ATTN: Children's Bureau, 118 Q Street, NE., Washington, DC 20002-2132.

For Hand Delivery: Applicant must provide an original application with all attachments, signed by an authorized representative and two copies. The application must be received at the address below by 4:30 p.m. eastern standard time on or before the closing date. Applications that are hand delivered will be accepted between the hours of 8 a.m. to 4:30 p.m., Monday through Friday. Applications may be delivered to: ACYF Operations, The Dixon Group, ATTN: Children's Bureau 118 Q Street, NE., Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

Electronic Address Where Applications Will Be Accepted: www.Grants.gov.

Address Where Hard Copy Applications Will Be Accepted: Children's Bureau Grant Receipt Point, ACYF Operations Center, c/o The Dixon Group, Inc., 118 Q Street NE., Washington, DC 20002-2132

ACYF will not acknowledge receipt of hard copy application submissions.

V. Application Review Information

Refer to Priority Area 1, Section V. Application Review Information, for information on The Paperwork Reduction Act of 1995 (Pub. L. 104-13) and General Instruction for Preparing Full Project Description.

Specific Evaluation Criteria

The following criteria will be used to review and evaluate each application under this Priority Area. The applicant should address each criterion in the project description. The point values (summing up to 100) indicate the maximum numerical weight each criterion will be accorded in the review process.

Criterion 1. Objectives and Need for Assistance

In reviewing the objectives and need for assistance, the following factors will be considered: (20 points).

(1) The extent to which the applicant demonstrates a clear and thorough understanding of the need for providing coordinated training and technical assistance to public and private child welfare and youth serving agencies responsible for serving the target population(s), and the goals of the applicable legislative mandates.

(2) The extent to which the training and technical assistance objectives of the project will effectively build the capacity of State, and local public and private agencies to collect and use data as a management tool for evaluating child welfare programs and making changes based on the data and evaluations.

(3) The extent to which the applicant demonstrates a thorough understanding of the problems and issues regarding the integration of automation into every level of child welfare service including direct practice; supervision; management and administration; and ensuring data quality and comparability across States. The extent to which the applicant demonstrates a thorough understanding of the issues related to courts in the management, monitoring and decision-making process.

(4) The extent to which the applicant proposes a sound approach for effectively identifying strengths and weaknesses in existing child welfare information systems and for providing effective technical assistance to resolve problems for both the information systems and the use of data.

(5) The extent to which the proposed project will produce significant results and benefits, and a high level of customer satisfaction on the part of agencies served and their State and local constituents.

Criterion 2. Approach

In reviewing the approach, the following factors will be considered: (50 points).

(1) The extent to which there is a reasonable timeline for implementing the proposed project, including the activities to be conducted in chronological order, showing a reasonable schedule of accomplishments and target dates and the factors that may accelerate or decelerate the work.

(2) The extent to which the applicant provides a workable plan of action. The extent to which this plan relates to the stated objectives and scope of the project and reflects the intent of the applicable legislative mandates.

(3) The extent to which the applicant describes sound strategies to help agencies develop and maintain a comprehensive child welfare information system that fulfills Federal legislative and regulatory requirements. The extent to which these strategies will enhance the agency's capacity to promote stakeholder involvement in the planning, implementation, and evaluation of funded programs.

(4) The extent to which the applicant describes sound strategies to assist States to complete effective action plans associated with AFCARS and SACWIS reviews; and to assist States in successfully completing the development of their SACWIS systems.

(5) The extent to which the applicant describes sound strategies for identifying the most effective approach for successfully integrating the use of information systems into child welfare practice with the intent of supporting workers, improving services and measuring program performance and case outcomes.

(6) The extent to which there is a sound approach to assisting State agencies and courts in the analysis of implications of new legislative and/or regulatory requirements for change in systems and data requirements.

(7) The extent to which the applicant will effectively maintain the National and State peer-to-peer networks in the child welfare information and data usage fields to serve as peer consultants.

(8) The extent to which the applicant will effectively identify relevant emerging issues; models that delineate the effective and appropriate uses of technology in the administration and case management activities of child welfare programs; and innovative and exemplary information systems, data utilization and program and system evaluation approaches that will be of interest and use to State agencies and the courts. The extent to which the applicant will effectively evaluate new technological applications in the child welfare domain. The extent to which the applicant will also cooperate with the Children's Bureau in meetings, briefings, or other forums to disseminate knowledge gained from its work with States, other grantees and local communities around child welfare issues.

(9) The extent to which the applicant provides a sound plan for effectively assisting the Children's Bureau in planning, organizing and conducting at least one national data usage conference/meeting on an annual basis for States, court personnel and other relevant professionals, groups and organizations. (The conference/meeting may be an enhancement of an established national conference/meeting sponsored by ACF.)

(10) The extent to which the applicant will collaborate effectively with the National Child Welfare Resource Center for Organizational Improvement in assessing training and technical assistance needs and developing and implementing a T/TA work plan in response to requests from States and Tribes for on-site training and technical assistance.

(11) The extent to which the applicant will effectively coordinate its activities with other National Resource Centers, AdoptUSKids, Clearinghouses, other members of the training and technical assistance network funded by the Children's Bureau, and the Training and Technical Assistance Coordination Committee made up of Federal staff from the Children's Bureau and Regional Offices.

(12) The extent to which the applicant will provide appropriate process and outcome evaluation data to the NCWRCOI, so it can evaluate the results and benefits of the technical assistance provided.

Criterion 3. Organizational Profiles

In reviewing the organizational profiles, the following factors will be considered: (20 points).

(1) The extent to which the applicant organization and any partnering organizations collectively have sufficient experience and expertise (including experience on the national level) in: (1) Identifying the training and technical assistance needs of an agency or organization; (2) developing or participating in the development of a plan to meet those needs; (3) designing, developing and delivering training and technical assistance including recruiting, assigning, and deploying staff with appropriate experience; (4) developing evaluation strategies and providing technical assistance on evaluation methodologies, (5) designing, developing, delivering and evaluating training materials, (6) the development and enhancement of automated child welfare information systems and the generation of high quality and consistent data; (7) the use of that data by child welfare agency and court staff; (8) establishing effective working partnerships with other agencies and organizations; and (9) administering, developing, implementing, managing, and evaluating similar projects. The extent to which each participating organization (including partners and/or subcontractors) possesses the organizational capability to fulfill their assigned roles and functions effectively (if the application involves partnering and/or subcontracting with other agencies/organizations).

(2) The extent to which the applicant's project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

(3) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification

In reviewing the budget and budget justification, the following factors will be considered: (10 points).

(1) The extent to which the costs of the proposed project are reasonable, in view of the activities to be conducted and expected results and benefits.

(2) The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions.

Available Funds: Applicants should note that grants to be awarded under this program announcement are subject to the availability of funds. The size of the actual awards will vary. In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

Priority Area 5—National Child Welfare Resource Center on Legal and Judicial Issues

Purpose: The purpose of this Cooperative Agreement is to provide financial support for training and technical assistance aimed at achieving safety, permanency and well being for abused and neglected children through improved legal representation and judicial decision-making. This training and technical assistance will build the capacity of public and private, non-profit child welfare agencies and juvenile and family courts by providing resources and consultation to help them improve outcomes for children and their families. Particular emphasis will be placed on supporting and enhancing activities carried out under the State Court Improvement Program (CIP), and increasing legal and court involvement in the development and implementation of Program Improvement Plans in response to the Child and Family Services Reviews.

Activities to be conducted by the National Child Welfare Resource Center for Legal and Judicial Issues will include, but are not limited to:

(1) Providing on-site technical assistance, training and consultation to State and Tribal child welfare agencies and juvenile and family courts on ASFA implementation, and to State courts on implementation of their Court Improvement Programs;

(2) Supporting States and localities in integrating courts, and those who represent children, parents and agencies in courts, into the Child and Family Services Review (CFSR) process;

(3) Identifying and disseminating information about exemplary and innovative practices in the legal and judicial areas of child welfare, including CIP activities, agency and court collaboration, timely decisions on termination of parental rights, non-adversarial case resolution, reasonable efforts requirements, legal representation of children, parents and child welfare agencies, permanent guardianship, confidentiality, legal ethics for child welfare attorneys, action planning for courts and agency representatives, the interplay of domestic violence and child welfare, expediting dependency appeals, interjurisdictional issues, case tracking systems, judicial performance and workload issues, and other emerging child welfare issues;

(4) Developing publications, responding to requests for information, and providing resource information to child welfare professionals, lawyers, judges, child welfare and judicial educators, appellate courts, court administrators and individuals nationwide;

(5) Conducting regular and ongoing assessment of the legal and judicial needs of agencies and courts, identifying new unmet needs and developing a national technical assistance and training strategy for the next five years;

(6) Contributing to the annual planning and implementation of a national permanency partnership forum for child welfare agency staff and Court Improvement Program personnel;

(7) Coordinating and collaborating with other ACYF resource centers, AdoptUSKids, the National Child Welfare Resource Center for Organizational Improvement as the single-point of entry for requests for on-site training and technical assistance, the Training and Technical Assistance Coordination Committee made up of Federal staff from the Children's Bureau and Regional Offices, and other agencies in the Department to maximize technical assistance and training effectiveness, avoid duplication and manage resources effectively;

(8) Coordinating with the Children's Bureau, ACF Regional Offices and State and Tribal agencies in the development of the annual technical assistance and training strategy;

(9) Processing all on-site T/TA requests through the single point of entry established by the NCWRCOI, which will involve the Regional Office staff, the appropriate NRCs or AdoptUSKids, and Children's Bureau staff as needed, as well as any other critical stakeholder, to facilitate an assessment of T/TA needs and a coordinated and immediate response that avoids delays or duplication of effort;

(10) Participating in twice-a-year team meetings of the Training and Technical Assistance Network funded by the Children's Bureau, and the Training and Technical Assistance Coordination Committee;

(11) Collaborating with other ACYF Resource Centers, other agencies in the Department of Health and Human Services and other agents of the Children's Bureau to strengthen TA efforts, avoid duplication and manage resources effectively;

(12) Providing information and cooperation needed by the NCWRCOI as it manages, maintains and updates to improve functionality, when needed, the web-based tracking system for training and technical assistance requests developed for the Children's Bureau to track NRC's responses to T/TA requests from State, local, Tribal and other publicly supported child welfare agencies, and juvenile and family courts; and

(13) Providing data needed by the NCWRCOI to evaluate the results and benefits of the technical assistance provided by the National Resource Center.

The primary goal of the National Child Welfare Resource Center on Legal and Judicial Issues is to provide technical assistance to States on legal and judicial issues related to child welfare and child protection. This Resource Center provides extensive off-site and on-site technical assistance nationwide, including State-specific work as well as participation in regional and national conferences. The Resource Center will also be expected to develop and distribute brochures, technical assistance announcements, articles, and other materials, and maintain a Web site as well as appropriate listserves to disseminate information to lawyers, judges and court improvement coordinators.

The Resource Center will be expected to be creative and innovative in responding to questions and requests from the state agencies and courts, as well as in developing new materials on cutting edge issues as they emerge from legal decisions, Federal and State legislation, new regulations and other developments in the child welfare field. Critical to the work of the Resource Center is the ability to stimulate effective and lasting collaboration between State agencies and courts, and provide strong support for court improvements to build and sustain that collaboration. The Resource Center must have demonstrated ability to form partnerships with national legal and judicial organizations as well as independent consultants in the field, thus maximizing the breadth and substance of the training and technical assistance provided to the States. The Resource Center will be expected to forge strong links with the full range of the Children's Bureau resource centers and support contractors, resulting in joint training and technical assistance presentations and collaborative development of resources.

Expected outcomes will be the increased capacity of juvenile and family courts to expedite permanency through more informed and timely decision making, strong Court Improvement Programs nationwide implementing needed court reform, and better integration of courts and legal representatives into the implementation of Program Improvement Plans resulting from Child and Family Service Reviews.

Background on the Court Improvement Program

The State Court Improvement Program (CIP) was created as part of the Omnibus Budget Reconciliation Act (OBRA) of 1993, Public Law 103-66, which among other things, provided Federal funds to State child welfare agencies and Tribes for preventive services and services to families at risk or in crisis. OBRA designated a portion of these funds ($5 million in fiscal year 1995 and $10 million in each of FYs 1996 through 1998) for grants to State court systems to conduct assessments of their foster care and adoption laws and judicial processes, and to develop and implement a plan for system improvement. Awards are made to the highest State courts in States participating in the IV-E program.

The Adoption and Safe Families Act of 1997 (ASFA), Public Law 105-89, reauthorized the CIP through 2001, which Congress funded at $10 million annually. There were no substantive changes made to the CIP in the 1997 reauthorization.

The Promoting Safe and Stable Families Amendments of 2001, Public Law 107-133, reauthorized the Court Improvement Program through FY 2006. The law also expands the scope of the program to: (1) Include improvements that the highest courts deem necessary to provide for the safety, well-being, and permanence of children in foster care, as set forth in ASFA; and (2) implement a corrective action plan, as necessary, in response to findings identified in a Child and Family Service Review of the State's child welfare system. Public Law 107-133 authorizes a mandatory funding level of $10 million for CIP and new discretionary funding for FYs 2002 through 2006. From any discretionary funding appropriated annually for the Promoting Safe and Stable Families Program, the law authorizes a 3.3 percent set-aside for the CIP. Finally, the Court Improvement Program authority was transferred to a new section 438 of the Social Security Act.

As of FY 2001 all eligible States (50 States, the District of Columbia, and Puerto Rico) are receiving annual Court Improvement Program grants. Typical activities include development of mediation programs, joint agency-court training, automated docketing and case tracking, linked agency-court data systems, one judge/one family models, time-specific docketing, formalized relationships with the child welfare agency, improvement of representation for children and families, CFSR program improvement plan (PIP) development and implementation, and legislative changes.

II. Award Information

Funding Instrument Type: Cooperative agreement.

Description of Federal Substantial Involvement With Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Anticipated Total Program Funding: The anticipated total for the award under this priority area in FY2004 is $800,000.

Anticipated Number of Awards: It is anticipated that one project will be funded.

Ceiling on Amount of Individual Awards: The award amount will not exceed $800,000 in the first budget period. An application received that exceeds the upper value of the dollar range specified will be considered “non-responsive” and be returned to the applicant without further review.

Floor of Individual Award Amounts: None.

Average Anticipated Award Amount: $800,000 per budget period.

Project Periods for Awards: This grant will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Nonprofits having a 501(c)(3) status with the IRS, other than institutions of higher education

Nonprofits that do not have a 501(c)(3) status with the IRS, other than institutions of higher education

Private institutions of higher education

For-profit organization other than small businesses

Small businesses

Additional Information on Eligibility: Collaborative efforts and interdisciplinary approaches are acceptable. Applications from collaborations must identify a primary applicant responsible for administering the grants.

Non-profit organizations, including faith-based and community organizations are elgible to apply. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost Sharing or Matching

The grantee must provide at least 10 percent of the total approved cost of the project. The total approved cost is the sum of the Federal share and the non-Federal share. Therefore, a project requesting $800,000 per budget period must include a match of at least $88,889 per budget period. Applicants should provide a letter of commitment verifying the actual amount of the non-Federal share of project costs.

The following example shows how to calculate the required 10% match amount for an $800,000 grant:

$800,000 (Federal share)

divided by .90 (100%−10%)

equals $888,889 (total project cost including match)

minus $800,000 (Federal share)

equals $88,889 (required 10% match)

The non-Federal share may be cash or in-kind contributions, although applicants are encouraged to meet their match requirements through cash contributions. If approved for funding, grantees will be held accountable for the commitment of non-Federal resources and failure to provide the required amount will result in a disallowance of unmatched Federal funds.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

Applications that exceed the $800,000 per budget period ceiling will be considered non-responsive and will not be eligible for funding under this announcement.

IV. Application and Submission Information

1. Address To Request Application Package

ACYF Operations Center, c/o The Dixon Group, Inc., 118 Q Street, NE., Washington, DC 20002-2132, (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application form from Grants.gov.

• We may request that you provide original signatures on forms at a later date.

• You may access the electronic application for this program on www.Grants.gov.

• You must search for the downloadable application package by the CFDA number.

Each application must contain the following items in the order listed:

1. Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check “New.”

In Item 10 of Form 424, clearly identify the Catalog of Federal Domestic Assistance (CFDA) program title and number for the program for which funds are being requested as stated in the funding opportunity announcement.

In Item 11 of Form 424, identify the single priority area the application addresses.

In Item 12 of Form 424, identify the specific geographic area to be served.

In Item 14 of Form 424, identify Congressional districts of both the applicant and project.

2. Budget Information Non-Construction Programs (Form 424A) and Budget Justification.

Follow the instructions provided. Note that Federal funds provided to States and services or other resources purchased with Federal funds may not be used to match project grants.

3. Certifications/Assurances. Applicants requesting financial assistance for nonconstruction projects must file the Standard Form 424B, ‘Assurances: Non-Construction Programs.’ Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the application.

If applicable, applicants must include a completed SPOC certification (Single Point of Contact) with the date of the SPOC contact entered in line 16, page 1 of the Form 424.

Assurances: By signing the “Signature of Authorized Representative” on the SF 424, the applicant is providing a certification and need not mail assurances for completing the following cooperative agreement requirements:

• The applicant will have the project fully functioning within 90 days of the notification of the award.

• The applicant will participate in any evaluation or technical assistance effort supported by ACYF.

• The applicant will submit all required semi-annual and final Financial Status Reports (SF269) and Program Performance Reports in a timely manner, in hard-copy and electronic formats (preferably MS WORD and PDF) as negotiated with the Federal Project Officer.

• The Resource Center Project Director or one key staff member will attend the following meetings in Washington, DC: A meeting with the Federal Project Officer and other ACYF staff within 60 days of receiving the award; two meetings annually, for one to two days each, with Children's Bureau staff and other training and technical assistance partners to plan a national training and technical assistance strategy; one meeting annually to participate in a Children's Bureau grantee meeting with the purpose of disseminating knowledge gained from work with State agencies and courts around child welfare issues.

• In situations where the applicant's organizational position on a particular policy and/or practice might differ from the Federal position, the Federal position will be used to guide the Resource Center activity and will be reflected in all public statements and publications of the Resource Center.

• The applicant will enter into a Cooperative Agreement with the Children's Bureau.

• The Resource Center will work in partnership with the Children's Bureau and the ACF Regional Offices by providing technical assistance to States that have needs identified through one of ACF's review processes.

• The Resource Center will work collaboratively with the other six National Resource Centers and AdoptUSKids.

• The Resource Center will work with the Training and Technical Assistance Coordination Committee, which will be composed of Federal staff from the Children's Bureau and Regional Offices and which will provide direction to the strategic development of the training and technical assistance network.

• The Resource Center will work collaboratively with the CB Clearinghouses and other members of the training and technical assistance network funded by the Children's Bureau in providing training and technical assistance.

• The Resource Center will work directly with the National Child Welfare Resource Center for Organizational Improvement (NCWRCOI), which will serve as a single point of entry for States and Tribes to request on-site training and technical assistance to ensure a coordinated and immediate response.

• The Resource Center will provide evaluation data to the NCWRCOI that addresses both process and outcomes to evaluate the results and benefits of the technical assistance provided.

The Office for Human Research Protections of the U.S. Department of Health and Human Services provides Web site information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable HHS regulations can be found in 45 CFR part 74 or 92.

4. Project Abstract/Summary (one page maximum). Clearly mark this page with the applicant name as shown on item 5 of the Form 424, identify the competitive grant priority area and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this priority area announcement providing information that addresses all the components.

6. Proof of non-profit status (if applicable). Any non-profit organization submitting an application must submit proof of its non-profit status in its application at the time of submission. Any of the following constitutes acceptable proof of such status:

a. A reference to the applicant organization's listing in the Internal Revenue Services' (IRS) most recent list of tax-exempt organizations described in the IRS Code.

b. A copy of a currently valid IRS tax exemption certificate.

c. A statement from a State taxing body, State attorney general, or other appropriate State official certifying that the applicant organization has a non-profit status and that none of the net earnings accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide a letter of commitment verifying the actual amount of the non-Federal share of project costs.

10. The application limit is 75 pages total including all forms and attachments. Submit one original and two copies.

To be considered for funding, each application must be submitted with the Standard Federal Forms (provided at the end of this announcement or through the electronic links provided) and following the guidance provided. The application must be signed by an individual authorized to act for the applicant organization and to assume responsibility for the obligations imposed by the terms and conditions of the grant award.

To be considered for funding, each applicant must submit one signed original and two additional copies of the application, including all forms and attachments, to the Application Receipt Point specified in the section titled Deadline. The original copy of the application must have original signatures, signed in black ink.

The application must be typed, double spaced, printed on only one side, with at least ½ inch margins on each side and 1 inch at the top and bottom, using standard 12 Point fonts (such as Times Roman or Courier). Pages must be numbered.

Pages over the page limit stated within this priority area announcement will be removed from the application and will not be reviewed. All copies of an application must be submitted in a single package, and a separate package must be submitted for each priority area. The package must be clearly labeled for the specific priority area it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting from application copies (not originals) specific salary rates or amounts for individuals specified in the application budget. The copies may include summary salary information.

Private non-profit organizations are encouraged to submit with their applications the survey located under “Grant Related Documents and Forms” titled “Survey for Private, Non-Profit Grant Applicants.”

Please see Section V.1. Criteria, for instructions on preparing the project summary/abstract and the full project description.

3. Submission Dates and Times

The closing time and date for receipt of applications is 4:30 p.m. eastern standard time (e.s.t.) on August 24, 2004. Mailed or handcarried applications received after 4:30 p.m. on the closing date will be classified as late.

Deadline: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., e.s.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms

What to submit | Required content | Required form or format | When to submit
1. SF424 | Per required form | May be found at http://www.acf.hhs.gov/programs/ofs/forms | See application due date.
2. SF424A | Per required form | May be found at http://www.acf.hhs.gov/programs/ofs/forms.htm | See application due date.
3.a. SF424B | Per required form | May be found at http://www.acf.hhs.gov/programs/ofs/forms.htm | See application due date.
3.b. Certification regarding lobbying | Per required form | May be found at http://www.acf.hhs.gov/programs/ofs/forms.htm | See application due date.
3.c. Disclosure of Lobbying Activities (SF-LLL) | Per required form | May be found at http://www.acf.hhs.gov/programs/ofs/forms.htm | See application due date.
4. Project Summary/Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Non-Federal share letter | See above | See above | See application due date.
Total application | See above | Application limit 75 pages total including all forms and attachments. Submit one original and two copies | See application due date.

Additional Forms

Private, non-profit organizations are encouraged to submit with their applications the additional survey located under “Grant Related Documents and Forms” titled “Survey for Private, Non-Profit Grant Applicants.”

What to submit | Required contact | Required form or format | When to submit
Survey for Private, Non-Profit Grant Applications | Per required form | May be found on http://www.acf.hhs.gov/programs/ofs/forms.htm | By application due date.

4. Intergovernmental Review

State Single Point of Contact (SPOC)

This program is covered under Executive Order (E.O.) 12372, “Intergovernmental Review of Federal Programs”, and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by Federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Federal funds received as a result of this announcement cannot be paid as profit to grantees or sub-grantees, i.e., any amount in excess of allowable direct and indirect costs of the recipient (45 CFR 74.81).

6. Other Submission Requirements

Submission by Mail: An applicant must provide an original application with all attachments, signed by an authorized representative and two copies. The application must be received at the address below by 4:30 p.m. eastern standard time on or before the closing date. Applications should be mailed to: ACYF Operations, The Dixon Group, ATTN: Children's Bureau, 118 Q Street, NE., Washington, DC 20002-2132.

For Hand Delivery: Applicant must provide an original application with all attachments, signed by an authorized representative and two copies. The application must be received at the address below by 4:30 p.m. eastern standard time on or before the closing date. Applications that are hand delivered will be accepted between the hours of 8 a.m. to 4:30 p.m., Monday through Friday. Applications may be delivered to: ACYF Operations, The Dixon Group, ATTN: Children's Bureau 118 Q Street, NE., Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

Electronic Address Where Applications Will Be Accepted: www.Grants.gov.

Address Where Hard Copy Applications Will Be Accepted: Children's Bureau Grant Receipt Point, ACYF Operations Center, c/o The Dixon Group, Inc., 118 Q Street, NE., Washington, DC 20002-2132.

ACYF will not acknowledge receipt of hard copy application submissions.

V. Application Review Information

Refer to Priority Area 1, Section V. Application Review Information, for information on The Paperwork Reduction Act of 1995 (Pub. L. 104-13) and General Instruction for Preparing Full Project Description.

Specific Evaluation Criteria

The following criteria will be used to review and evaluate each application under this Priority Area. The applicant should address each criterion in the project description. The point values (summing up to 100) indicate the maximum numerical weight each criterion will be accorded in the review process.

Criterion 1. Objectives and Need for Assistance

In reviewing the objectives and need for assistance, the following factors will be considered: (20 points).

(1) The extent to which the applicant demonstrates a clear and thorough understanding of the need for providing coordinated training and technical assistance to public and private child welfare agencies and courts responsible for serving the target population(s), and the goals of the applicable legislative mandates.

(2) The extent to which the training and technical assistance objectives of the project will effectively build the capacity of State, and local public and private agencies and courts to support effective efforts to develop, operate, expand, and enhance initiatives improving outcomes for children, youth and families served by these agencies and courts.

(3) The extent to which the proposed project will produce significant results and benefits, and a high level of customer satisfaction on the part of agencies and courts served and their State and local constituents.

Criterion 2. Approach

In reviewing the approach, the following factors will be considered: (50 points).

(1) The extent to which there is a reasonable timeline for implementing the proposed project, including the activities to be conducted in chronological order, showing a reasonable schedule of accomplishments and target dates and the factors that may accelerate or decelerate the work.

(2) The extent to which there is a sound plan to help agencies and courts develop activities that fulfill the legislative mandates and meet the objectives of the Child and Family Service Reviews. The extent to which this plan enhances agencies' capacity to promote stakeholder (especially courts and legal representatives of children, parents and child welfare agencies) involvement in the planning and implementation of the Program Improvement Plans (PIPs).

(3) The extent to which the Resource Center's services, program activities, and materials will be developed and provided in a manner that is racially and culturally sensitive to the population(s) being served.

(4) The extent to which the applicant will collaborate effectively with the National Child Welfare Resource Center for Organizational Improvement in assessing training and technical assistance needs and developing and implementing a T/TA work plan in response to requests from States and Tribes for on-site training and technical assistance.

(5) The extent to which the applicant will provide appropriate process and outcome evaluation data to the NCWRCOI, so it can evaluate the results and benefits of the technical assistance provided.

(6) The extent to which the applicant will assist courts nationwide to fulfill the mandate of the Court Improvement Program. The extent to which the applicant will implement innovative strategies to support the States in development of their re-assessments and strategic plans, and implementation of recommendations for system improvement.

(7) The extent to which the Resource Center will identify innovative and exemplary practices that would support the training and technical assistance objectives under this funding announcement. The extent to which the Resource Center will continually identify relevant emerging issues and the need for new and different services.

(8) The extent to which the applicant will establish and maintain an excellent national network of professionals in the field to serve as consultants. The extent to which there is a sound plan to link these individuals with persons, agencies or courts requesting assistance. The extent to which the Resource Center will ensure that the network promotes the provision of services that is responsive to diverse populations. The extent to which there is a sound plan to determine the quality of the consultation provided by eliciting consumer participation and feedback.

(9) The extent to which the applicant describes effective strategies which will be implemented to foster and strengthen communication and coordination activities with legal and judicial organizations as well as client and advocacy groups, agencies, and other professional organizations serving children, youth and families.

(10) The extent to which the applicant will effectively coordinate its activities with other National Resource Centers, AdoptUSKids, Clearinghouses, other members of the training and technical assistance network funded by the Children's Bureau, and the Training and Technical Assistance Coordination Committee made up of Federal staff from the Children's Bureau and Regional Offices.

(11) The extent to which the applicant describes a sound plan to help agencies and courts improve services, legal representation and decision-making to over-represented populations, particularly minority children in care and their families. The extent to which the applicant identifies techniques that will be used in assessing factors that impede the delivery of culturally appropriate services and strategies that will be used to assist in reducing the effect of those factors.

(12) The extent to which the applicant describes a sound plan for assisting agencies and courts in developing practices which are in compliance with the non-discrimination and recruitment provisions of the Multi-Ethnic Placement Act of 1994, as amended (MEPA) [42 U.S.C. 622] and Section 1808 of Public Law 104-188 “Removal of Barriers to Interethnic Adoption” [42 U.S.C. 1996b], as well as the inter-jurisdictional provisions of ASFA (Sec. 202(a)(3) Public Law 105-89) [42 U.S.C. 622(b)].

Criterion 3. Organizational Profiles

In reviewing the organizational profiles, the following factors will be considered: (20 points).

(1) The extent to which the applicant organization and any partnering organizations collectively have sufficient experience and expertise (including experience on the national level) in: (1) Identifying the training and technical assistance needs of an agency or court; (2) developing or participating in the development of a plan to meet those needs; (3) designing, developing and delivering training and technical assistance including recruiting, assigning, and deploying staff with appropriate experience; (4) developing evaluation strategies and providing technical assistance on evaluation methodologies; (5) designing, developing, delivering and evaluating training materials; (6) establishing effective working partnerships with other agencies and organizations; and (7) administering, developing, implementing, managing, and evaluating similar projects. The extent to which each participating organization (including partners and/or subcontractors) possesses the organizational capability to fulfill their assigned roles and functions effectively (if the application involves partnering and/or subcontracting with other agencies/organizations).

(2) The extent to which the applicant's project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

(3) The extent to which there is a sound management plan for achieving the objectives of the proposed project on time and within budget, including clearly defined responsibilities, timelines and milestones for accomplishing project tasks and ensuring quality. The extent to which the plan clearly defines the role and responsibilities of the lead organization. The extent to which the plan clearly describes the effective management and coordination of activities carried out by any partners, subcontractors and consultants (if appropriate). The extent to which there would be a mutually beneficial relationship between the proposed project and other work planned, anticipated or underway with Federal assistance by the applicant.

Criterion 4. Budget and Budget Justification

In reviewing the budget and budget justification, the following factors will be considered: (10 points).

(1) The extent to which the costs of the proposed project are reasonable, in view of the activities to be conducted and expected results and benefits.

(2) The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions.

Available Funds: Applicants should note that grants to be awarded under this program announcement are subject to the availability of funds. The size of the actual awards will vary. In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

Priority Area 6—National Resource Center for Special Needs Adoption

Purpose: The purpose of establishing the National Resource Center for Special Needs Adoption is to build the capacity of State, local, Tribal, and other publicly administered or publicly supported child welfare agencies and adoption agencies to integrate policy and practice; to develop, expand, strengthen and improve the quality and effectiveness of adoption services for children in the child welfare system; and to implement the Federal legislation administered by the Children's Bureau effectively. This Resource Center is expected to train and assist State agencies and adoption agencies to establish effective interagency cooperation and collaboration that involves all stakeholders, including youth, and promotes public-private partnerships in the coordination of adoption programs for children in the child welfare system. Activities to be conducted by the National Resource Center for Special Needs Adoption will include, but are not limited to the following:

(1) Fostering an understanding, appreciation, and knowledge of special needs adoption resulting in improved outcomes for children and youth in the child welfare system;

(2) Facilitating and assisting efforts of State, local, Tribal, public, and private agencies in the coordinated planning and development of a range of services and supports for the adoption of children from the child welfare system;

(3) Actively engaging in conducting regular and ongoing needs assessments that will be used to identify unmet needs and which also incorporates findings from other statewide needs assessment processes such as the Child and Family Services Review;

(4) Demonstrating a commitment to meaningful stakeholder involvement, especially youth in foster care and those members of other underrepresented or underserved groups;

(5) Providing on-site technical assistance, training and consultation to State and Tribal child welfare agencies;

(6) Supporting States in their Program Improvement Plans resulting from Child and Family Service Reviews;

(7) Promoting professional leadership development of minorities in the adoption field; and developing and disseminating materials, including curricula, guidelines and training materials;

(8) Providing financial support and coordination for the National Association of State Adoption Programs (NASAP). The purpose of this Association is to develop a collegial group of state adoption managers to keep each other informed on the latest program, policy and practice developments and adoption laws, and maintain an efficient, state-of-the-art adoption services program to increase the numbers of children adopted, to support adoptive families and to remove geographical barriers when placing children across jurisdictions. It is anticipated that NASAP will meet once a year to discuss relevant issues and will include relevant Children's Bureau staff in the meeting;

(9) Coordinating with the Children's Bureau, ACF Regional Offices and State and Tribal agencies in the development of the annual technical assistance and training strategy;

(10) Processing all on-site T/TA requests through the single point of entry established by the NCWRCOI, which will involve the Regional Office staff, the appropriate NRCs or AdoptUSKids, and Children's Bureau staff as needed, as well as any other critical stakeholder, to facilitate an assessment of T/TA needs and a coordinated and immediate response that avoids delays or duplication of effort;

(11) Participating in twice-a-year team meetings of the Training and Technical Assistance Network funded by the Children's Bureau, and the Training and Technical Assistance Coordination Committee;

(12) Collaborating with other ACYF Resource Centers, other agencies in the Department of Health and Human Services and other agents of the Children's Bureau to strengthen TA efforts, avoid duplication and manage resources effectively;

(13) Providing information and cooperation needed by the NCWRCOI as it manages, maintains and updates to improve functionality, when needed, the web-based tracking system for training and technical assistance requests developed for the Children's Bureau to track NRCs responses to T/TA requests from State, local, Tribal and other publicly supported child welfare agencies; and

(14) Providing data needed by the NCWRCOI to evaluate the results and benefits of the technical assistance provided by the National Resource Center.

Expected outcomes include the enhanced capacity of each State agency to:

(1) Develop, support, and maintain a range of services and supports, including post-adoption services, for the adoption of children from the child welfare system;

(2) Conduct interagency needs assessments of required services;

(3) Facilitate special needs adoption program and policy development;

(4) Coordinate the delivery of special needs adoption services;

(5) Promote the meaningful participation of stakeholders in the design and implementation of services; and

(6) Conduct program evaluations.

The goal of the National Resource Center is to help strengthen the capacity of agencies to integrate policy and practice; to develop, expand, strengthen and improve the quality and effectiveness of adoption services for children in the child welfare system; and to implement the Federal legislation administered by the Children's Bureau effectively. This training and technical assistance is intended to build the capacity of State, local, Tribal, and other publicly administered or publicly supported child welfare agencies and adoption agencies. This Resource Center is expected to train and assist State agencies and adoption agencies to establish effective interagency cooperation and collaboration that involves all stakeholders, including youth, and promotes public-private partnerships in the coordination of adoption programs for children in the child welfare system.

Training and technical assistance needs will be identified by NRC staff in collaboration with States, the CB T/TA Coordinating Committee, the National Resource Center for Organizational Improvement, and coordinated with other ongoing national training and technical assistance efforts. The Resource Center will also be actively involved with identifying other training and technical assistance needs based on their work with the other child welfare organizations. The Resource Center will be expected to develop and distribute brochures, technical assistance announcements, articles, and other materials. The Resource Center will be expected to be creative and innovative in responding to questions and requests from state agencies as well as developing new materials on cutting edge issues as they emerge from Federal and state legislation, new regulations and other developments in the child welfare field. Technical assistance outcomes should be achieved through a combination of strategies, including on-site training, on and off-site technical assistance, and consultation with all appropriate stakeholder groups. The Resource Center will be expected to forge strong links with the full range of the Children's Bureau resource centers and support contractors, including joint training and technical assistance presentations and resources development.

II. Award Information

Funding Instrument Type: Cooperative agreement.

Description of Federal Substantial Involvement With Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Anticipated Total Program Funding: The anticipated total for the award under this priority area in FY2004 is $800,000.

Anticipated Number of Awards: It is anticipated that one project will be funded.

Ceiling on Amount of Individual Awards: The grant amount will not exceed $800,000 in the first budget period. An application received that exceeds the upper value of the dollar range specified will be considered “non-responsive” and be returned to the applicant without further review.

Floor of Individual Award Amounts: None.

Average Anticipated Award Amount: $800,000 per budget period.

Project Periods for Awards: This grant will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Nonprofits having a 501(c)(3) status with the IRS, other than institutions of higher education

Nonprofits that do not have a 501(c)(3) status with the IRS, other than institutions of higher education

Private institutions of higher education For-profit organization other than small businesses

Small businesses

Additional Information on Eligibility: Collaborative efforts and interdisciplinary approaches are acceptable. Applications from collaborations must identify a primary applicant responsible for administering the grants.

Non-profit organizations, including faith-based and community organizations are elgible to apply. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost Sharing or Matching

The grantee must provide at least 10 percent of the total approved cost of the project. The total approved cost is the sum of the Federal share and the non-Federal share. Therefore, a project requesting $800,000 per budget period must include a match of at least $88,889 per budget period. Applicants should provide a letter of commitment verifying the actual amount of the non-Federal share of project costs.

The following example shows how to calculate the required 10% match amount for an $800,000 grant:

$800,000 (Federal share)

divided by .90 (100%-10%)

equals $888,889 (total project cost including match)

minus $800,000 (Federal share)

equals $88,889 (required 10% match)

The non-Federal share may be cash or in-kind contributions, although applicants are encouraged to meet their match requirements through cash contributions. If approved for funding, grantees will be held accountable for the commitment of non-Federal resources and failure to provide the required amount will result in a disallowance of unmatched Federal funds.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

Applications that exceed the $800,000 per budget period ceiling will be considered non-responsive and will not be eligible for funding under this announcement.

IV. Application and Submission Information

1. Address To Request Application Package

ACYF Operations Center, c/o The Dixon Group, Inc., 118 Q Street, NE., Washington, DC 20002-2132, (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Each application must contain the following items in the order listed:

1. Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check ‘New.’

In Item 10 of Form 424, clearly identify the Catalog of Federal Domestic Assistance (CFDA) program title and number for the program for which funds are being requested as stated in the funding opportunity announcement.

In Item 11 of Form 424, identify the single priority area the application addresses.

In Item 12 of Form 424, identify the specific geographic area to be served.

In Item 14 of Form 424, identify Congressional districts of both the applicant and project.

2. Budget Information Non-Construction Programs (Form 424A) and Budget Justification.

Follow the instructions provided. Note that Federal funds provided to States and services or other resources purchased with Federal funds may not be used to match project grants.

3. Certifications/Assurances. Applicants requesting financial assistance for nonconstruction projects must file the Standard Form 424B, ‘Assurances: Non-Construction Programs.’ Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the application.

If applicable, applicants must include a completed SPOC certification (Single Point of Contact) with the date of the SPOC contact entered in line 16, page 1 of the Form 424.

Assurances: By signing the “Signature of Authorized Representative” on the SF 424, the applicant is providing a certification and need not mail assurances for completing the following cooperative agreement requirements:

• The applicant will have the project fully functioning within 90 days of the notification of the award.

• The applicant will participate in any evaluation or technical assistance effort supported by ACYF.

• The applicant will submit all required semi-annual and final Financial Status Reports (SF269) and Program Performance Reports in a timely manner, in hard-copy and electronic formats (preferably MS WORD and PDF) as negotiated with the Federal Project Officer.

• The Resource Center Project Director or one key staff member will attend the following meetings in Washington, DC: A meeting with the Federal Project Officer and other ACYF staff within 60 days of receiving the award; two meetings annually, for one to two days each, with Children's Bureau staff and other training and technical assistance partners to plan a national training and technical assistance strategy; one meeting annually to participate in a Children's Bureau grantee meeting with the purpose of disseminating knowledge gained from work with State agencies and courts around child welfare issues.

• In situations where the applicant's organizational position on a particular policy and/or practice might differ from the Federal position, the Federal position will be used to guide the Resource Center activity and will be reflected in all public statements and publications of the Resource Center.

• The applicant will enter into a Cooperative Agreement with the Children's Bureau.

• The Resource Center will work in partnership with the Children's Bureau and the ACF Regional Offices by providing technical assistance to States that have needs identified through one of ACF's review processes.

• The Resource Center will work collaboratively with the other six National Resource Centers and AdoptUSKids.

• The Resource Center will work with the Training and Technical Assistance Coordination Committee, which will be composed of Federal staff from the Children's Bureau and Regional Offices and which will provide direction to the strategic development of the training and technical assistance network.

• The Resource Center will work collaboratively with the CB Clearinghouses and other members of the training and technical assistance network funded by the Children's Bureau in providing training and technical assistance.

• The Resource Center will work directly with the National Child Welfare Resource Center for Organizational Improvement (NCWRCOI), which will serve as a single point of entry for States and Tribes to request onsite training and technical assistance to ensure a coordinated and immediate response.

• The Resource Center will provide evaluation data to the NCWRCOI that addresses both process and outcomes to evaluate the results and benefits of the technical assistance provided.

The Office for Human Research Protections of the U.S. Department of Health and Human Services provides Web site information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable HHS regulations can be found in 45 CFR part 74 or 92.

4. Project Abstract/Summary (one page maximum). Clearly mark this page with the applicant name as shown on item 5 of the Form 424, identify the competitive grant priority area and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this priority area announcement providing information that addresses all the components.

6. Proof of non-profit status. Any non-profit organization submitting an application must submit proof of its non-profit status in its application at the time of submission. Any of the following constitutes acceptable proof of such status:

a. A reference to the applicant organization's listing in the Internal Revenue Services' (IRS) most recent list of tax-exempt organizations described in the IRS Code.

b. A copy of a currently valid IRS tax exemption certificate.

c. A statement from a State taxing body, State attorney general, or other appropriate State official certifying that the applicant organization has a non-profit status and that none of the net earnings accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide a letter of commitment verifying the actual amount of the non-Federal share of project costs.

10. The application limit is 75 pages total including all forms and attachments. Submit one original and two copies.

To be considered for funding, each application must be submitted with the Standard Federal Forms (provided at the end of this announcement or through the electronic links provided) and following the guidance provided. The application must be signed by an individual authorized to act for the applicant organization and to assume responsibility for the obligations imposed by the terms and conditions of the grant award.

To be considered for funding, each applicant must submit one signed original and two additional copies of the application, including all forms and attachments, to the Application Receipt Point specified in the section titled Deadline. The original copy of the application must have original signatures, signed in black ink.

The application must be typed, double spaced, printed on only one side, with at least 1/2 inch margins on each side and 1 inch at the top and bottom, using standard 12 Point fonts (such as Times Roman or Courier). Pages must be numbered.

Pages over the page limit stated within this priority area announcement will be removed from the application and will not be reviewed. All copies of an application must be submitted in a single package, and a separate package must be submitted for each priority area. The package must be clearly labeled for the specific priority area it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting from application copies (not originals) specific salary rates or amounts for individuals specified in the application budget. The copies may include summary salary information.

Private non-profit organizations are encouraged to submit with their applications the survey located under “Grant Related Documents and Forms” titled “Survey for Private, Non-Profit Grant Applicants.”

Please see Section V.1. Criteria, for instructions on preparing the project summary/abstract and the full project description.

3. Submission Dates and Times

The closing time and date for receipt of applications is 4:30 p.m. eastern standard time (e.s.t.) on August 24, 2004. Mailed or handcarried applications received after 4:30 p.m. on the closing date will be classified as late.

Deadline: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., e.s.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms

What to submit | Required content | Required form or format | When to submit
1. SF424 | Per required form | May be found at http://www.acf.hhs.gov/programs/ofs/forms.htm | See application due date.
2. SF424A | Per required form | May be found at http://www.acf.hhs.gov/programs/ofs/forms.htm | See application due date.
3.a. SF424B | Per required form | May be found at http://www.acf.hhs.gov/programs/ofs/forms.htm | See application due date.
3.b. Certification regarding lobbying | Per required form | May be found at http://www.acf.hhs.gov/programs/ofs/forms.htm | See application due date.
3.c. Disclosure of Lobbying Activities (SF-LLL) | Per required form | May be found at http://www.acf.hhs.gov/programs/ofs/forms.htm | See application due date.
4. Project Summary/Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Non-Federal share letter | See above | See above | See application due date.
Total application | See above | Application limit 75 pages total including all forms and attachments. Submit one original and two copies | See application due date.

Additional Forms

Private, non-profit organizations are encouraged to submit with their applications the additional survey located under “Grant Related Documents and Forms” titled “Survey for Private, Non-Profit Grant Applicants.”

What to submit | Required content | Required form or format | When to submit
Survey for Private, Non-Profit Grant Applicants | Per required form | May be found on http://www.acf.hhs.gov/programs/ofs/forms.htm | By application due date.

4. Intergovernmental Review

State Single Point of Contact (SPOC)

This program is covered under Executive Order (E.O.) 12372, “Intergovernmental Review of Federal Programs,” and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by Federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Federal funds received as a result of this announcement cannot be paid as profit to grantees or sub-grantees, i.e., any amount in excess of allowable direct and indirect costs of the recipient (45 CFR 74.81).

6. Other Submission Requirements

Submission by Mail: An applicant must provide an original application with all attachments, signed by an authorized representative and two copies. The application must be received at the address below by 4:30 p.m. eastern standard time on or before the closing date. Applications should be mailed to: ACYF Operations, The Dixon Group, ATTN: Children's Bureau, 118 Q Street, NE., Washington, DC 20002-2132.

For Hand Delivery: Applicant must provide an original application with all attachments, signed by an authorized representative and two copies. The application must be received at the address below by 4:30 p.m. eastern standard time on or before the closing date. Applications that are hand delivered will be accepted between the hours of 8 a.m. to 4:30 p.m., Monday through Friday. Applications may be delivered to: ACYF Operations, The Dixon Group, ATTN: Children's Bureau 118 Q Street, NE., Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

Electronic Address Where Applications Will Be Accepted: www.Grants.gov.

Address Where Hard Copy Applications Will Be Accepted: Children's Bureau Grant Receipt Point, ACYF Operations Center, c/o The Dixon Group, Inc., 118 Q Street, NE., Washington, DC 20002-2132.

ACYF will not acknowledge receipt of hard copy application submissions.

V. Application Review Information

Refer to Priority Area 1, Section V. Application Review Information, for information on The Paperwork Reduction Act of 1995 (Pub. L.# 104-13) and General Instruction for Preparing Full Project Description.

Specific Evaluation Criteria

The following criteria will be used to review and evaluate each application under this Priority Area. The applicant should address each criterion in the project description. The point values (summing up to 100) indicate the maximum numerical weight each criterion will be accorded in the review process.

Criterion 1. Objectives and Need for Assistance

In reviewing the objectives and need for assistance, the following factors will be considered: (20 points)

(1)The extent to which the applicant demonstrates a clear and thorough understanding of the need for providing coordinated training and technical assistance to public and private child welfare agencies responsible for serving the target population(s), and the goals of the applicable legislative mandates.

(2)The extent to which the training and technical assistance objectives of the project will effectively build the capacity of State, and local public and private agencies to support effective efforts to develop, operate, expand, and enhance initiatives improving outcomes for children, youth and families served by these agencies.

(3)The extent to which the proposed project will produce significant results and benefits, and a high level of customer satisfaction on the part of agencies served and their State and local constituents.

Criterion 2. Approach

In reviewing the approach, the following factors will be considered: (50 points)

(1) The extent to which there is a reasonable timeline for implementing the proposed project, including the activities to be conducted in chronological order, showing a reasonable schedule of accomplishments and target dates and the factors that may accelerate or decelerate the work.

(2) The extent to which the applicant provides a workable plan of action. The extent to which this plan relates to the stated objectives and scope of the project and reflects the intent of the applicable legislative mandates.

(3) The extent to which the applicant describes sound strategies for providing technical assistance and effectively building the capacity of State, and local public and private agencies to fulfill the legislative mandates for the target population effectively. The extent to which the applicant presents a sound plan for effectively and efficiently providing technical assistance to the agencies in the early identification and follow-up of children for whom adoptive placement is the plan, and for distributing effective models for increasing the rate of adoptive placements of children with special needs who are legally free for adoption, including a focus on children over age eight, and siblings, and for providing post-adoption services.

(4) The extent to which the applicant proposes to implement effective strategies to help child welfare and adoption agencies develop an innovative and exemplary adoption program; effective planning, collaboration, and implementation methods; effective service development strategies; effective practice techniques; useful resources such as training curricula and educational materials; and rigorous research and program evaluation components.

(5) The extent to which the applicant describes a sound plan to help child welfare and adoption agencies improve services to underrepresented and over-represented populations, particularly minority families and children in care. The extent to which effective techniques would be used in assessing factors which impede the delivery of culturally appropriate services and strategies to assist agencies in reducing these factors. The extent to which the Resource Center's services, program activities, and materials developed are provided in a manner that is racially and culturally sensitive to the population(s) being served while being inclusive of a range of adoption resources. The extent to which there is a sound approach to develop a national network of professionals in the adoption field to serve as consultants to individuals and agencies that are requesting assistance to ensure that their services are appropriate for racially and culturally diverse target populations.

(6) The extent to which there is a sound plan for assisting agencies in developing adoption practices which are consistent with the anti-discriminatory placement and recruitment provisions of the Multiethnic Placement Act (MEPA), the Inter-Ethnic Adoption Provisions (IEP), and the interjurisdictional provisions of ASFA.

(7) The extent to which the applicant will effectively coordinate its activities with other National Resource Centers, AdoptUSKids, Clearinghouses, other members of the training and technical assistance network funded by the Children's Bureau, and the Training and Technical Assistance Coordination Committee made up of Federal staff from the Children's Bureau and Regional Offices.

(8) The extent to which the applicant describes a sound plan for conducting or providing partial financial support for a two to three day national conference for State adoption specialists that also includes foster care managers and state staff involved in child welfare programs.

(9) The extent to which the applicant describes a sound plan for providing financial support and coordination for the National Association of State Adoption Programs (NASAP), in accordance with the requirements of this funding announcement.

(10) The extent to which the applicant will collaborate effectively with the National Child Welfare Resource Center for Organizational Improvement in assessing training and technical assistance needs and developing and implementing a T/TA work plan in response to requests from States and Tribes for on-site training and technical assistance.

(11) The extent to which the applicant will provide appropriate process and outcome evaluation data to the NCWRCOI, so it can evaluate the results and benefits of the technical assistance provided.

Criterion 3. Organizational Profiles

In reviewing the organizational profiles, the following factors will be considered: (20 points).

(1) The extent to which the applicant organization and any partnering organizations collectively have sufficient experience and expertise (including experience on the national level) in: (1) Identifying the training and technical assistance needs of an agency or organization; (2) developing or participating in the development of a plan to meet those needs; (3) designing, developing and delivering training and technical assistance including recruiting, assigning, and deploying staff with appropriate experience; (4) developing evaluation strategies and providing technical assistance on evaluation methodologies, (5) designing, developing, delivering and evaluating training materials, (6) establishing effective working partnerships with other agencies and organizations; and (7) administering, developing, implementing, managing, and evaluating similar projects. The extent to which each participating organization (including partners and/or subcontractors) possesses the organizational capability to fulfill their assigned roles and functions effectively (if the application involves partnering and/or subcontracting with other agencies/organizations).

(2) The extent to which the applicant's project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

(3) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification

In reviewing the budget and budget justification, the following factors will be considered: (10 points).

(1) The extent to which the costs of the proposed project are reasonable, in view of the activities to be conducted and expected results and benefits.

(2) The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. Reviewers will be looking to see that the total budget you propose and the way you have apportioned that budget are appropriate and reasonable for the project you have described. Remember that the reviewers only have the information that you give them—it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions.

Available Funds: Applicants should note that grants to be awarded under this program announcement are subject to the availability of funds. The size of the actual awards will vary. In cases where more applications are approved for funding than ACF can fund with the money available, the Grants Officer shall fund applications in their order of approval until funds run out. In this case, ACF has the option of carrying over the approved applications up to a year for funding consideration in a later competition of the same program. These applications need not be reviewed and scored again if the program's evaluation criteria have not changed. However, they must then be placed in rank order along with other applications in later competitions.

Priority Area 7—National Resource Center for Youth Development

Purpose: The purpose of this Cooperative Agreement is to provide financial support for training and technical assistance to promote the purposes of the John H. Chafee Foster Care Independence Program(CFCIP) and the Education and Training Vouchers (ETV) Program, and to achieve the goals of safety, permanency and well-being for youth in the child welfare system. This training and technical assistance is intended to build the capacity of public and private, non-profit child welfare and youth-serving agencies to:

(1) Foster an understanding, appreciation, and knowledge of positive youth development in order to be effective in improving outcomes for older children and youth in the child welfare system;

(2) Facilitate and assist efforts of State, local, Tribal, public, and private agencies in the coordinated planning and development of a range of services and supports for youth in the child welfare system and those transitioning to self-sufficiency;

(3) Actively engage in conducting regular and ongoing needs assessments that will be used to identify unmet needs and which also incorporates findings from other statewide and local needs assessment processes;

(4) Demonstrate a commitment to meaningful stakeholder involvement, especially current and former foster care youth and those members of other underrepresented or underserved groups;

(5) Provide on-site technical assistance, training and consultation to State and Tribal child welfare and youth-serving agencies;

(6) Plan and implement two annual national conferences: Pathways to Adulthood and Foster Youth Leadership.

(7) Support States and localities in their Program Improvement Plans resulting from Child and Family Service Reviews;

(8) Coordinate with the Children's Bureau, ACF Regional Offices, and State and Tribal agencies in the development of the annual technical assistance and training strategy;

(9) Process all on-site T/TA requests through the single point of entry established by the NCWRCOI, which will involve the Regional Office staff, the appropriate NRCs or AdoptUSKids, and Children's Bureau staff as needed, as well as any other critical stakeholder, to facilitate an assessment of T/TA needs and a coordinated and immediate response that avoids delays or duplication of effort;

(10) Participate in twice-a-year team meetings of the Training and Technical Assistance Network funded by the Children's Bureau, and the Training and Technical Assistance Coordination Committee;

(11) Collaborate with other ACYF Resource Centers, other agencies in the Department of Health and Human Services and other agents of the Children's Bureau to strengthen TA efforts, avoid duplication and manage resources effectively;

(12) Provide information and cooperation needed by the NCWRCOI as it manages, maintains and updates to improve functionality, when needed, the web-based tracking system for training and technical assistance requests developed for the Children's Bureau to track NRCs responses to T/TA requests from State, local, Tribal and other publicly supported child welfare agencies; and

(13) Provide data needed by the NCWRCOI to evaluate the results and benefits of the technical assistance provided by the National Resource Center.

Expected outcomes include the enhanced capacity of each State agency to:

(1) Develop, support, and maintain a range of services and supports to assist youth in making a smoother transition to adulthood and to reduce the likelihood of continued dependency on the adult social welfare system through a focus on positive youth development;

(2) Conduct interagency needs assessments of required services;

(3) Facilitate CFCIP and ETV program and policy development;

(4) Coordinate the delivery of independent living and transitional support services;

(5) Promote the meaningful participation of stakeholders, including youth in the design, implementation and evaluation of funded services; and

(6) Enhance the capacity of the State Independent Living agency to become more active participants in their State's Child and Family Services Review/ Program Improvement Planning processes.

This Resource Center is expected to train and assist State agencies and youth-serving organizations to establish effective interagency cooperation and collaboration that involves all stakeholders, including youth, and promotes public-private partnerships in the coordination of IL and transition support for foster youth programs. Training and technical assistance needs will be identified by agency staff in collaboration with the Training and Technical Assistance Coordination Committee, the National Resource Center for Organizational Improvement and ACYF Central and Regional Office personnel, and coordinated with other ongoing national training and technical assistance efforts. The Resource Center will also be actively involved with identifying other training and technical assistance needs and resources based on their work with the other youth-serving organizations, including ACYF's Family and Youth Services Bureau (FYSB) and their activities http://www.acf.hhs.gov/programs/fysb/ . Training outcomes should be achieved through a combination of strategies, including on-site training, on and off-site technical assistance, and consultation with all appropriate stakeholder groups.

II. Award Information

Funding Instrument Type: Cooperative agreement.

Description of Federal Substantial Involvement With Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Anticipated Total Program Funding: The anticipated total for the award under this priority area in FY2004 is $800,000.

Anticipated Number of Awards: It is anticipated that one project will be funded.

Ceiling on Amount of Individual Awards: The award amount will not exceed $800,000 in the first budget period. An application received that exceeds the upper value of the dollar range specified will be considered “non-responsive” and be returned to the applicant without further review.

Floor of Individual Award Amounts: None.

Average Anticipated Award Amount: $800,000 per budget period.

Project Periods for Awards: This grant will be awarded for a project period of 60 months. The initial grant award will be for a 12-month budget period. The award of continuation funding beyond each 12-month budget period will be subject to the availability of funds, satisfactory progress on the part of the grantee, and a determination that continued funding would be in the best interest of the government.

III. Eligibility Information

1. Eligible Applicants

State governments

County governments

City or township governments

State controlled institutions of higher education

Nonprofits having a 501(c)(3) status with the IRS, other than institutions of higher education

Nonprofits that do not have a 501(c)(3) status with the IRS, other than institutions of higher education

Private institutions of higher education

For-profit organization other than small businesses

Small businesses

Additional Information on Eligibility Collaborative efforts and interdisciplinary approaches are acceptable. Applications from collaborations must identify a primary applicant responsible for administering the grants.

Non-profit organizations, including faith-based and community organizations are elgible to apply. Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

2. Cost Sharing or Matching

The grantee must provide at least 10 percent of the total approved cost of the project. The total approved cost is the sum of the Federal share and the non-Federal share. Therefore, a project requesting $800,000 per budget period must include a match of at least $88,889 per budget period. Applicants should provide a letter of commitment verifying the actual amount of the non-Federal share of project costs.

The following example shows how to calculate the required 10% match amount for an $800,000 grant:

$800,000 (Federal share)

divided by .90 (100%-10%)

equals $888,889 (total project cost including match)

minus $800,000 (Federal share)

equals $88,889 (required 10% match)

The non-Federal share may be cash or in-kind contributions, although applicants are encouraged to meet their match requirements through cash contributions. If approved for funding, grantees will be held accountable for the commitment of non-Federal resources and failure to provide the required amount will result in a disallowance of unmatched Federal funds.

3. Other (If Applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number online at http://www.dnb.com.

Applications that exceed the $800,000 per budget period ceiling will be considered non-responsive and will not be eligible for funding under this announcement.

IV. Application and Submission Information

1. Address To Request Application Package

ACYF Operations Center, c/o The Dixon Group, Inc., 118 Q Street, NE., Washington, DC 20002-2132, (866) 796-1591.

2. Content and Form of Application Submission

You may submit your application to us either in electronic or paper format. To submit an application electronically, please use the www.Grants.gov apply site. If you use Grants.gov you will be able to download a copy of the application package, complete it off-line, and then upload and submit the application via the Grants.gov site. You may not e-mail an electronic copy of a grant application to us.

Please note the following if you plan to submit your application electronically via Grants.gov.

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov

• You must search for the downloadable application package by the CFDA number.

Each application must contain the following items in the order listed:

1. Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check ‘New.’

In Item 10 of Form 424, clearly identify the Catalog of Federal Domestic Assistance (CFDA) program title and number for the program for which funds are being requested as stated in the funding opportunity announcement.

In Item 11 of Form 424, identify the single priority area the application addresses.

In Item 12 of Form 424, identify the specific geographic area to be served.

In Item 14 of Form 424, identify Congressional districts of both the applicant and project.

2. Budget Information Non-Construction Programs (Form 424A) and Budget Justification.

Follow the instructions provided. Note that Federal funds provided to States and services or other resources purchased with Federal funds may not be used to match project grants.

3. Certifications/Assurances. Applicants requesting financial assistance for nonconstruction projects must file the Standard Form 424B, ‘Assurances: Non-Construction Programs.’

Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the application.

If applicable, applicants must include a completed SPOC certification (Single Point of Contact) with the date of the SPOC contact entered in line 16, page 1 of the Form 424.

Assurances: By signing the “Signature of Authorized Representative” on the SF 424, the applicant is providing a certification and need not mail assurances for completing the following cooperative agreement requirements:

• The applicant will have the project fully functioning within 90 days of the notification of the award.

• The applicant will participate in any evaluation or technical assistance effort supported by ACYF.

• The applicant will submit all required semi-annual and final Financial Status Reports (SF269) and Program Performance Reports in a timely manner, in hard-copy and electronic formats (preferably MS WORD and PDF) as negotiated with the Federal Project Officer.

• The Resource Center Project Director or one key staff member will attend the following meetings in Washington, DC: A meeting with the Federal Project Officer and other ACYF staff within 60 days of receiving the award; two meetings annually, for one to two days each, with Children's Bureau staff and other training and technical assistance partners to plan a national training and technical assistance strategy; one meeting annually to participate in a Children's Bureau grantee meeting with the purpose of disseminating knowledge gained from work with State agencies and courts around child welfare issues.

• In situations where the applicant's organizational position on a particular policy and/or practice might differ from the Federal position, the Federal position will be used to guide the Resource Center activity and will be reflected in all public statements and publications of the Resource Center.

• The applicant will enter into a Cooperative Agreement with the Children's Bureau.

• The Resource Center will work in partnership with the Children's Bureau and the ACF Regional Offices by providing technical assistance to States that have needs identified through one of ACF's review processes.

• The Resource Center will work collaboratively with the other six National Resource Centers and AdoptUSKids.

• The Resource Center will work with the Training and Technical Assistance Coordination Committee, which will be composed of Federal staff from the Children's Bureau and Regional Offices and which will provide direction to the strategic development of the training and technical assistance network.

• The Resource Center will work collaboratively with the CB Clearinghouses and other members of the training and technical assistance network funded by the Children's Bureau in providing training and technical assistance.

• The Resource Center will work directly with the National Child Welfare Resource Center for Organizational Improvement (NCWRCOI), which will serve as a single point of entry for States and Tribes to request onsite training and technical assistance to ensure a coordinated and immediate response.

• The Resource Center will provide evaluation data to the NCWRCOI that addresses both process and outcomes to evaluate the results and benefits of the technical assistance provided.

The Office for Human Research Protections of the U.S. Department of Health and Human Services provides Web site information and policy guidance on the Federal regulations pertaining to protection of human subjects (45 CFR part 46), informed consent, informed consent checklists, confidentiality of personal identification information, data collection procedures, and internal review boards: http://ohrp.osophs.dhhs.gov/polasur.htm.

If applicable, applicants must include a completed Form 310, Protection of Human Subjects.

In implementing their projects, grantees are expected to comply with all applicable administrative regulations regarding extent or types of costs. Applicable HHS regulations can be found in 45 CFR part 74 or 92.

4. Project Abstract/Summary (one page maximum). Clearly mark this page with the applicant name as shown on item 5 of the Form 424, identify the competitive grant priority area and the title of the proposed project as shown in item 11 and the service area as shown in item 12 of the Form 424. The summary description should not exceed 300 words.

Care should be taken to produce an abstract/summary that accurately and concisely reflects the proposed project. It should describe the objectives of the project, the approach to be used and the results or benefits expected.

5. Project Description for Evaluation. Applicants should organize their project description according to the Evaluation Criteria described in this priority area announcement providing information that addresses all the components.

6. Proof of non-profit status. Any non-profit organization submitting an application must submit proof of its non-profit status in its application at the time of submission. Any of the following constitutes acceptable proof of such status:

a. A reference to the applicant organization's listing in the Internal Revenue Services' (IRS) most recent list of tax-exempt organizations described in the IRS Code.

b. A copy of a currently valid IRS tax exemption certificate.

c. A statement from a State taxing body, State attorney general, or other appropriate State official certifying that the applicant organization has a non-profit status and that none of the net earnings accrue to any private shareholders or individuals.

d. A certified copy of the organization's certificate of incorporation or similar document that clearly establishes non-profit status.

e. Any of the items immediately above for a State or national parent organization and a statement signed by the parent organization that the applicant organization is a local non-profit affiliate.

7. Indirect cost rate agreement. If claiming indirect costs, provide documentation that applicant currently has an indirect cost rate approved by the Department of Health and Human Services (HHS) or another cognizant Federal agency.

8. Letters of agreement and memoranda of understanding. If applicable, include a letter of commitment or Memorandum of Understanding from each partner and/or sub-contractor describing their role, detailing specific tasks to be performed, and expressing commitment to participate if the proposed project is funded.

9. Provide a letter of commitment verifying the actual amount of the non-Federal share of project costs.

10. The application limit is 75 pages total including all forms and attachments. Submit one original and two copies.

To be considered for funding, each application must be submitted with the Standard Federal Forms (provided at the end of this announcement or through the electronic links provided) and following the guidance provided. The application must be signed by an individual authorized to act for the applicant organization and to assume responsibility for the obligations imposed by the terms and conditions of the grant award.

To be considered for funding, each applicant must submit one signed original and two additional copies of the application, including all forms and attachments, to the Application Receipt Point. The original copy of the application must have original signatures, signed in black ink.

The application must be typed, double spaced, printed on only one side, with at least ½ inch margins on each side and 1 inch at the top and bottom, using standard 12 Point fonts (such as Times Roman or Courier). Pages must be numbered.

Pages over the page limit stated within this priority area announcement will be removed from the application and will not be reviewed. All copies of an application must be submitted in a single package, and a separate package must be submitted for each priority area. The package must be clearly labeled for the specific priority area it is addressing.

Because each application will be duplicated, do not use or include separate covers, binders, clips, tabs, plastic inserts, maps, brochures, or any other items that cannot be processed easily on a photocopy machine with an automatic feed. Do not bind, clip, staple, or fasten in any way separate subsections of the application, including supporting documentation. Applicants are advised that the copies of the application submitted, not the original, will be reproduced by the Federal government for review. Each copy must be stapled securely in the upper left corner.

Applicants have the option of omitting from application copies (not originals) specific salary rates or amounts for individuals specified in the application budget. The copies may include summary salary information.

Private non-profit organizations are encouraged to submit with their applications the survey located under “Grant Related Documents and Forms” titled “Survey for Private, Non-Profit Grant Applicants.”

Please see Section V.1. Criteria, for instructions on preparing the project summary/abstract and the full project description.

3. Submission Dates and Times

The closing time and date for receipt of applications is 4:30 p.m. eastern standard time (e.s.t.) on August 24, 2004. Mailed or handcarried applications received after 4:30 p.m. on the closing date will be classified as late.

Deadline: Mailed applications shall be considered as meeting an announced deadline if they are received on or before the deadline time and date at the following address: ACYF Operations Center, c/o The Dixon Group, Inc., ATTN: Children's Bureau, 118 Q Street, NE., Washington, DC 20002-2132.

Applicants are responsible for mailing applications well in advance, when using all mail services, to ensure that the applications are received on or before the deadline time and date.

Applications hand-carried by applicants, applicant couriers, or by other representatives of the applicant shall be considered as meeting an announced deadline if they are received on or before the deadline date, between the hours of 8 a.m. and 4:30 p.m., e.s.t., at ACYF Operations Center, c/o The Dixon Group, Inc., ATTN: Children's Bureau, 118 Q Street, NE., Washington, DC 20002-2132, between Monday and Friday (excluding Federal holidays). This address must appear on the envelope/package containing the application with the note “ATTN: Children's Bureau.” Applicants are cautioned that express/overnight mail services do not always deliver as agreed. ACF cannot accommodate transmission of applications by fax.

Late applications: Applications which do not meet the criteria above are considered late applications. ACF shall notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms

What to submit | Required content | Required form or format | When to submit
1. SF424 | Per required form | May be found at http://www.acf.hhs.gov/programs/ofs/forms.htm | See application due date.
2. SF424A | Per required form | May be found at http://www.acf.hhs.gov/programs/ofs/forms.htm | See application due date.
3.a. SF424B | Per required form | May be found at http://www.acf.hhs.gov/programs/ofs/forms.htm | See application due date.
3.b. Certification regarding lobbying | Per required form | May be found at http://www.acf.hhs.gov/programs/ofs/forms.htm | See application due date.
3.c. Disclosure of Lobbying Activities (SF-LLL) | Per required form | May be found at http://www.acf.hhs.gov/programs/ofs/forms.htm | See application due date.
4. Project Summary/Abstract | Summary of application request | See instructions in this funding announcement | See application due date.
5. Project Description | Responsiveness to evaluation criteria | See instructions in this funding announcement | See application due date.
6. Proof of non-profit status | See above | See above | See application due date.
7. Indirect cost rate agreement | See above | See above | See application due date.
8. Letters of agreement & MOUs | See above | See above | See application due date.
9. Non-Federal share letter | See above | See above | See application due date.
Total application | See above | Application limit 75 pages total including all forms and attachments. Submit one original and two copies | See application due date.

Additional Forms

Private, non-profit organizations are encouraged to submit with their applications the additional survey located under “Grant Related Documents and Forms” titled “Survey for Private, Non-Profit Grant Applicants.”

What to submit | Required content | Required form or format | When to submit
Survey for Private, Non-Profit Grant Applicants | Per required form | May be found on http://www.acf.hhs.gov/programs/ofs/forms.htm | By application due date.

4. Intergovernmental Review

State Single Point of Contact (SPOC)

This program is covered under Executive Order (E.O.) 12372, “Intergovernmental Review of Federal Programs”, and 45 CFR Part 100, “Intergovernmental Review of Department of Health and Human Services Programs and Activities.” Under the Order, States may design their own processes for reviewing and commenting on proposed Federal assistance under covered programs.

As of October 2003, of the most recent SPOC list, the following jurisdictions have elected not to participate in the Executive Order process. Applicants from these jurisdictions or for projects administered by Federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards.

SPOCs are encouraged to eliminate the submission of routine endorsements as official recommendations. Additionally, SPOCs are requested to differentiate clearly between mere advisory comments and those official State process recommendations which may trigger the “accommodate or explain” rule.

When comments are submitted directly to ACF, they should be addressed to: Department of Health and Human Services, Administration for Children and Families, Division of Discretionary Grants, 370 L'Enfant Promenade, SW., Washington, DC 20447.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Federal funds received as a result of this announcement cannot be paid as profit to grantees or sub-grantees, i.e., any amount in excess of allowable direct and indirect costs of the recipient (45 CFR 74.81).

6. Other Submission Requirements

Submission by Mail: An applicant must provide an original application with all attachments, signed by an authorized representative and two copies. The application must be received at the address below by 4:30 p.m. eastern standard time on or before the closing date. Applications should be mailed to: ACYF Operations, The Dixon Group, ATTN: Children's Bureau, 118 Q Street, NE., Washington, DC 20002-2132.

For Hand Delivery: Applicant must provide an original application with all attachments, signed by an authorized representative and two copies. The application must be received at the address below by 4:30 p.m. eastern standard time on or before the closing date. Applications that are hand delivered will be accepted between the hours of 8 a.m. to 4:30 p.m., Monday through Friday. Applications may be delivered to: ACYF Operations, The Dixon Group, ATTN: Children's Bureau 118 Q Street, NE., Washington, DC 20002-2132. It is strongly recommended that applicants obtain documentation that the application was hand delivered on or before the closing date. Applicants are cautioned that express/overnight mail services do not always deliver as agreed.

Electronic Submission: Please see Section IV. 2. Content and Form of Application Submission, for guidelines and requirements when submitting applications electronically.

Electronic Address Where Applications Will Be Accepted: www.Grants.gov.

Address Where Hard Copy Applications Will Be Accepted: Children's Bureau Grant Receipt Point, ACYF Operations Center, c/o The Dixon Group, Inc., 118 Q Street, NE., Washington, DC 20002-2132.

ACYF will not acknowledge receipt of hard copy application submissions.

V. Application Review Information

Refer to Priority Area 1, Section V. Application Review Information, for information on The Paperwork Reduction Act of 1995 (Pub. L. 104-13) and General Instruction for Preparing Full Project Description.

Specific Evaluation Criteria

The following criteria will be used to review and evaluate each application under this Priority Area. The applicant should address each criterion in the project description. The point values (summing up to 100) indicate the maximum numerical weight each criterion will be accorded in the review process.

Criterion 1. Objectives and Need for Assistance

In reviewing the objectives and need for assistance, the following factors will be considered: (20 points)

(1) The extent to which the applicant demonstrates a clear and thorough understanding of the need for providing coordinated training and technical assistance to public and private child welfare and youth-serving agencies responsible for serving the target population(s), and demonstrates a thorough understanding of the goals of the legislative mandates.

(2) The extent to which the training and technical assistance objectives of the project will effectively build the capacity of State, and local public and private agencies to support effective efforts to develop, operate, expand, and enhance initiatives improving outcomes for children, youth and families served by these agencies.

(3) The extent to which the proposed project will produce significant results and benefits, and a high level of customer satisfaction on the part of agencies served and their State and local constituents.

Criterion 2. Approach

In reviewing the approach, the following factors will be considered: (50 points)

(1) The extent to which there is a reasonable timeline for implementing the proposed project, including the activities to be conducted in chronological order, showing a reasonable schedule of accomplishments and target dates and the factors that may accelerate or decelerate the work.

(2) The extent to which the applicant provides a workable plan of action. The extent to which this plan relates to the stated objectives and scope of the project and reflects the intent of the applicable legislative mandates.

(3) The extent to which the applicant describes sound strategies for providing technical assistance and effectively building the capacity of State, and local public and private agencies to fulfill the legislative mandates for the target population effectively. The extent to which the applicant presents a sound plan for effectively and efficiently providing technical assistance to the agencies in the delivery of independent living and youth development services, supports and activities.

(4) The extent to which the applicant proposes to implement sound strategies to help lead agencies effectively (1) develop a successful youth-focused, multi-disciplinary approach to the delivery of independent living and youth development services; (2) provide supports and activities that fulfill the legislative mandates; and (3) meet the objectives of the Child and Family Service Reviews. The extent to which the applicant would implement strategies that will enhance the agency's capacity to promote stakeholder involvement in the planning, implementation, and evaluation of funded programs.

(5) The extent to which the applicant describes a sound plan for promoting: (1) Interagency collaboration and implementation of new procedures for blending funding streams; and (2) management improvement strategies that facilitate interagency coordination as mandated by the CFCIP legislation. The extent to which the applicant will help independent living programs find ways to become more active and effective participants in the Child and Family Service Reviews and Program Improvement Planning processes in their States.

(6) The extent to which the applicant describes a sound plan for implementing two annual national conferences: Pathways to Adulthood and Foster Youth Leadership.

(7) The extent to which the applicant will collaborate effectively with the National Child Welfare Resource Center for Organizational Improvement in assessing training and technical assistance needs and developing and implementing a T/TA work plan in response to requests from States and Tribes for on-site training and technical assistance.

(8) The extent to which the applicant will effectively coordinate its activities with other National Resource Centers, AdoptUSKids, Clearinghouses, other members of the training and technical assistance network funded by the Children's Bureau, FYSB, and the Training and Technical Assistance Coordination Committee made up of Federal staff from the Children's Bureau and Regional Offices.

(9) The extent to which the Resource Center's services, program activities, and materials will be developed and provided in a manner that is racially and culturally sensitive to the population(s) being served.

(10) The extent to which the applicant will provide appropriate process and outcome evaluation data to the NCWRCOI, so it can evaluate the results and benefits of the technical assistance provided.

Criterion 3. Organizational Profiles

In reviewing the organizational profiles, the following factors will be considered: (20 points).

(1) The extent to which the applicant organization and any partnering organizations collectively have sufficient experience and expertise (including experience on the national level) in: (1) Identifying the training and technical assistance needs of an agency or organization; (2) developing or participating in the development of a plan to meet those needs; (3) designing, developing and delivering training and technical assistance including recruiting, assigning, and deploying staff with appropriate experience; (4) developing evaluation strategies and providing technical assistance on evaluation methodologies, (5) designing, developing, delivering and evaluating training materials, (6) establishing effective working partnerships with other agencies and organizations; and (7) administering, developing, implementing, managing, and evaluating similar projects. The extent to which each participating organization (including partners and/or subcontractors) possesses the organizational capability to fulfill their assigned roles and functions effectively (if the application involves partnering and/or subcontracting with other agencies/organizations.

(2) The extent to which the applicant's project director and key project staff possess sufficient relevant knowledge, experience and capabilities to implement and manage a project of this size, scope and complexity effectively. The extent to which the role, responsibilities and time commitments of each proposed project staff position, including consultants, subcontractors and/or partners, are clearly defined and appropriate to the successful implementation of the proposed project. The extent to which the author of this proposal will be closely involved throughout the implementation of the proposed project.

(3) The extent to which there is a sound management plan for achieving the objectives of the proposed project on time and within budget, including clearly defined responsibilities, timelines and milestones for accomplishing project tasks and ensuring quality. The extent to which the plan clearly defines the role and responsibilities of the lead agency. The extent to which the plan clearly describes the effective management and coordination of activities carried out by any partners, subcontractors and consultants (if appropriate). The extent to which there would be a mutually beneficial relationship between the proposed project and other work planned, anticipated or underway with Federal assistance by the applicant.

Criterion 4. Budget and Budget Justification

In reviewing the budget and budget justification, the following factors will be considered: (10 points).

(1) The extent to which the costs of the proposed project are reasonable, in view of the activities to be conducted and expected results and benefits.

(2) The extent to which the applicant's fiscal controls and accounting procedures would ensure prudent use, proper and timely disbursement and accurate accounting of funds received under this program announcement.

2. Review and Selection Process

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

All applications will be reviewed and evaluated using four major criteria: (1) Objectives and need for assistance, (2) approach, (3) organizational profiles, and (4) budget and budget justification. Each criterion has been assigned a point value. The point values (summing up to 100) indicate the maximum numerical weight each criterion may be given in the review and evaluation process.

Reviewers also are evaluating the project products and materials that you propose. Reviewers will be looking to see that the total budget you propose and the way you have apportioned that budget are appropriate and reasonable for the project you have described. Remember that the reviewers only have the information that you give them “ it needs to be clear, complete, and concise.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions.

VI. Award Administration Information

The following Award Administration Information applies to all seven of the Priority Areas in this Funding Announcement.

1. Award Notices

Anticipated Announcement and Award Dates: Applications will be reviewed during the summer of 2004. Grant awards will have a start date no later than September 30, 2004.

Award Notices: Successful applicants will receive a Financial Assistance Award which will set forth the amount of funds granted, the terms and conditions of the grant or cooperative agreement, the effective date of the grant, the budget period for which initial support will be given, the non-Federal share to be provided, and the total project period for which support is contemplated. The Grants Management Office issues the award notice.

The Commissioner will notify organizations in writing when their applications will not be funded. Every effort will be made to notify all unsuccessful applicants as soon as possible after final decisions are made.

2. Administrative and National Policy Requirements

45 CFR Part 74 and 45 CFR Part 92

Conditions of the Cooperative Agreement: Each National Child Welfare Resource Center will operate under a cooperative agreement. A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of sub-grant or sub-grant activities, if applicable; and Children's Bureau and recipient joint collaboration in the performance of key programmatic activities (i.e., strategic planning, implementation, information technology enhancements, training and technical assistance, publications or products, and evaluation). Close monitoring by the Children's Bureau of the requirements stated in this announcement that limit the grantee's discretion with respect to scope of services offered, organizational structure and management processes, coupled with close Children's Bureau monitoring during performance may, in order to ensure compliance with the intent of this funding, exceed those Federal stewardship responsibilities customary for grant activities.

Faith-based organizations that receive funding may not use Federal financial assistance, including funds, to meet any cost-sharing requirements or to support inherently religious activities, such as worship, religious instruction, or prayer.

3. Reporting

Reporting Requirements: Programmatic Reports and Financial Reports are required semi-annually. All required reports must be submitted in a timely manner, in recommended formats (to be provided), and the final report must also be submitted on disk or electronically using a standard word-processing program.

Within 90 days of project end date, the applicant must submit a copy of the final report and any program products to the National Clearinghouse on Child Abuse and Neglect, 330 C Street, SW., Washington, DC 20447. This is in addition to the standard requirement that the final program report must also be submitted to the Grants Management Specialist and the Federal Project Officer.

VII. Agency Contacts

The following Agency Contacts Information applies to all seven of the Priority Areas in this Funding Announcement.

Program Office Contact

LaChundra Thomas, 330 C St., SW., Washington, DC 20447, 202-205-8252, lthomas@acf.hhs.gov.

Grants Management Office Contact

William Wilson, 330 C St, SW., Washington, DC 20447, 202-205-8913, wwilson@acf.hhs.gov.

General

The Dixon Group, ACYF Operations Center, 118 Q Street, NE., Washington, DC 20002-2132, Telephone: (866) 796-1591.

VIII. Other Information

The following information applies to all seven of the Priority Areas in this Funding Announcement.

Additional information about this program and its purpose can be located on the following Web sites: http://www.acf.hhs.gov/programs/cb/; http://www.acf.hhs.gov/programs/fysb/.

Dated: June 15, 2004.
Joan E. Ohl,
Commissioner, Administration on Children, Youth and Families.

[FR Doc. 04-14170 Filed 6-24-04; 8:45 am]

BILLING CODE 4184-01-P